DEPARTMENT OF AGRICULTURE

Agricultural Marketing Service

7 CFR Part 1205

[Doc. No. AMS-CN-25-0018]

Cotton Board Rules and Regulations: Adjusting Supplemental Assessment on Imports (2025 Amendments)

AGENCY: Agricultural Marketing Service, Department of Agriculture (USDA).

ACTION: Direct final rule.

SUMMARY: The Agricultural Marketing Service (AMS) is amending the Cotton Board Rules and Regulations, decreasing the value assigned to imported cotton for the purposes of calculating supplemental assessments collected for use by the Cotton Research and Promotion Program. This amendment is required each year to ensure that assessments collected on imported cotton and the cotton content of imported products will be the same as those paid on domestically produced cotton. In addition, AMS is updating the Import Assessment Table to account for changes since the last assessment adjustment in 2024.

DATES: This direct final rule is effective March 1, 2026, without further action or notice, unless a significant adverse comment is received by January 30, 2026. If a significant adverse comment is received, AMS will publish a timely withdrawal of the amendment in the Federal Register.

ADDRESSES: Interested persons are invited to submit written comments concerning this direct final rule. Comments may be submitted by mail or hand delivery to Cotton Research and Promotion, Cotton and Tobacco Program, AMS, USDA, 3275 Appling Road, Memphis, Tennessee 38133 or via the internet at: https://www.regulations.gov. All comments should reference the document number and the date and page number of this issue of the Federal Register. All comments submitted in response to this direct final rule will be included in the record and will be made available to the public and can be viewed at: https://www.regulations.gov. Please be advised that the identity of the individuals or entities submitting the comments will be made public on the internet at the address provided above.

FOR FURTHER INFORMATION CONTACT: Sue Coleman, Acting Branch Chief, Research and Promotion, Cotton and Tobacco Program, AMS, USDA, 3275 Appling Road, Memphis, Tennessee 38133; telephone (901) 384-3000; facsimile (901) 384-3033; or email at CottonRP@usda.gov.

SUPPLEMENTARY INFORMATION:

A. Background

Amendments to the Cotton Research and Promotion Act (7 U.S.C. 2101-2118) (Act) were enacted by Congress under subtitle G of title XIX of the Food, Agriculture, Conservation, and Trade Act of 1990 (Pub. L. 101-624, 104 Stat. 3909; November 28, 1990). These amendments contained two provisions that authorized changes in the funding procedures for the Cotton Research and Promotion Program. These provisions provided for: (1) the assessment of imported cotton and cotton products; and (2) termination of refunds to cotton producers. (Prior to the 1990 amendments to the Act, producers could request assessment refunds.)

As amended, the Cotton Research and Promotion Order (7 CFR part 1205) (Order) was approved by producers and importers voting in a referendum held July 17-26, 1991, and the amended Order was published in the Federal Register on December 10, 1991 (56 FR 64470). A proposed rule implementing the amended Order was published in the Federal Register on December 17, 1991 (56 FR 65450). Implementing rules were published on July 1 and 2, 1992 (57 FR 29181) and (57 FR 29431), respectively.

This direct final rule amends the value assigned to imported cotton in the Cotton Board Rules and Regulations (7 CFR 1205.510(b)(2)) that is used to determine the Cotton Research and Promotion assessment on imported cotton and cotton products. The total value of assessment levied on cotton imports is the sum of two parts. The first part of the assessment is based on the weight of cotton imported—levied at a rate of $1 per bale of cotton, which is equivalent to 500 pounds, or $1 per 226.8 kilograms of cotton. The second part of the import assessment (referred to as the supplemental assessment) is based on the value of imported cotton lint or the cotton contained in imported cotton products—levied at a rate of five-tenths of one percent of the value of domestically produced cotton.

Section 1205.510(b)(2) of the Cotton Board Rules and Regulations provides for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted average price figure in the calculation of supplemental assessments on imported cotton and the cotton content of imported products will yield an assessment that is the same as assessments paid on domestically produced cotton.

The current value of imported cotton as published in 2024 in the Federal Register (89 FR 75445) for the purpose of calculating assessments on imported cotton is $0.013247 per kilogram. Using the average weighted price received by U.S. farmers for Upland cotton for the calendar year 2024, this direct final rule amends the new value of imported cotton to $0.012388 per kilogram to reflect the price received by U.S. farmers for Upland cotton during 2024.

An example of the complete assessment formula and how the figures are obtained is as follows: ¹

¹ Results are rounded for ease of presentation. Totals may not sum due to rounding.

One bale is equal to 500 pounds.

One kilogram (kg) equals 2.2046 pounds.

One pound equals 0.453597 kilograms.

One Dollar per Bale Assessment Converted to Kilograms

A 500-pound bale equals 226.8 kg. (500 × 0.453597).

$1 per bale assessment equals $0.002000 per pound or 0.2000 cents per pound (1/500) or $0.004409 per kg or 0.4409 cents per kg. (1/226.8).

Supplemental Assessment of 5/10 of One Percent of the Value of the Cotton Converted to Kilograms

The 2024 calendar year weighted average price received by producers for Upland cotton is $0.724 per pound or $1.596 per kg. (0.724 × 2.2046).

Five tenths of one percent of the average price equals $0.007979 per kg. (1.596 × 0.005).

Total Assessment

The total assessment per kilogram of raw cotton is obtained by adding the $1 per bale equivalent assessment of $0.004409 per kg and the supplemental assessment $0.007979 per kg, which equals $0.012388 per kg.

The current assessment on imported cotton is $0.013247 per kilogram of imported cotton. The revised assessment in this direct final rule is $0.012388, a decrease of $0.000858 per kilogram. This reflects the decrease in the average weighted price of Upland cotton received by U.S. farmers during the period January through December 2024.

The Import Assessment Table in 7 CFR 1205.510(b)(3) indicates the total assessment rate ($ per kilogram) due for each Harmonized Tariff Schedule (HTS) number that is subject to assessment. In this direct final rule, AMS is amending the Import Assessment Table to revise the total assessment rates in light of the change to the supplemental assessment rate. This table must be revised each year to reflect the change to the supplemental assessment rate, and any changes to the HTS numbers and respective conversion factors.

AMS believes that these amendments are necessary to ensure that assessments collected on imported cotton and the cotton content of imported products are the same as those paid on domestically produced cotton. Accordingly, changes reflected in this rule should be adopted and implemented as soon as possible since it is required by regulation.

As described in this Federal Register document, the amendment to the value used to determine the Cotton Research and Promotion Program importer assessment will be updated to reflect the assessment already paid by U.S. farmers. For the reasons mentioned above, AMS finds that publishing a proposed rule and seeking public comment is unnecessary because the change is required annually by regulation in 7 CFR 1205.510.

Also, this direct-final rulemaking furthers the objectives of Executive Order 13563, which requires that the regulatory process “promote predictability and reduce uncertainty” and “identify and use the best, most innovative, and least burdensome tools for achieving regulatory ends.”

AMS has used the direct rule rulemaking process since 2013 and has not received any adverse comments; however, if AMS receives significant adverse comments during the comment period, it will publish, in a timely manner, a document in the Federal Register withdrawing this direct final rule. AMS will then address public comments in a subsequent proposed rule and final rule based on the proposed rule.

B. Rulemaking Analyses

Executive Order 13175

This direct final rule has been reviewed under Executive Order 13175, “Consultation and Coordination with Indian Tribal Governments,” which requires Federal agencies to consider whether their rulemaking actions would have Tribal implications. AMS has determined that this rule is unlikely to have substantial direct effects on one or more Indian Tribes, on the relationship between the Federal Government and Indian Tribes, or on the distribution of power and responsibilities between the Federal Government and Indian Tribes.

Executive Orders 12866 and 13563

This action falls within a category of regulatory actions that the Office of Management and Budget (OMB) exempted from Executive Order 12866.

Executive Order 12988

This direct final rule has been reviewed under Executive Order 12988, “Civil Justice Reform.” This direct final rule is not intended to have retroactive effect.

The Act provides that administrative proceedings must be exhausted before parties may file suit in court challenging a final agency action. If no adverse comments are received, this direct final rule is the agency's final action on this matter. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of the Secretary's ruling.

Regulatory Flexibility Act and Paperwork Reduction Act

In accordance with the Regulatory Flexibility Act (RFA) (5 U.S.C. 601-612), AMS has examined the economic impact of this rule on small entities. The purpose of the RFA is to fit regulatory actions to the scale of businesses subject to such action so that small businesses will not be unduly or disproportionately burdened. The Small Business Administration (SBA) defines, in 13 CFR 121.201, a small cotton farming business as those having annual receipts of no more than $3.25 million (North American Industry Classification System (NAICS) Code 111920) and small “Other Farm Product Raw Material Merchant Wholesalers” (cotton merchants/importers) (NAICS Code 424590) as having no more than 175 employees.

According to the NASS 2022 Agriculture Census, the number of cotton farms is 14,283. NASS also reports that the total U.S. production value for Upland production averages $4,831,807,333 for 2022-2024. Dividing the crop value by the number of cotton farms, the average crop value is approximately $338,291. Since $338,291 is well below $3.25 million and assuming a normal distribution, the majority of cotton farmers are small according to the SBA standards.

The Cotton Board estimates approximately 37,000 importers are subject to the Cotton Research and Promotion Order. According to the United States Census Bureau's “2021 Survey of SUSB Annual Data Tables by Establishment Industry,” most importers are considered small entities as defined by the SBA (13 CFR 121.201). This rule would only affect importers of cotton and cotton-containing products and would decrease the assessments paid by the importers under the Cotton Research and Promotion Order. The current assessment on imported cotton is $0.013247 per kilogram of imported cotton. The amended assessment is $0.012388, which was calculated based on the 12-month weighted average of price received by U.S. cotton farmers in 2024. 7 CFR 1205.510, “Levy of assessments”, provides “The rate of the supplemental assessment on imported cotton will be the same as that levied on cotton produced within the United States.” In addition, § 1205.510 provides that the 12-month weighted average of prices received by U.S. farmers will be used as the value of imported cotton for the purpose of levying the supplemental assessment on imported cotton. Under the Cotton Research and Promotion Program, assessments are used by the Cotton Board to finance research and promotion programs designed to increase consumer demand for Upland cotton in the United States and international markets. In 2024, producer assessments totaled $35.2 million and importer assessments totaled $47.2 million. According to the Cotton Board, should the volume of cotton products imported into the U.S. remain at the same level in 2025, one could expect a decrease of assessments by approximately $3,067,378.

Imported organic cotton and products may be exempt from assessment if eligible under 7 CFR 1205.519.

There are no Federal rules that duplicate, overlap, or conflict with this rule.

In compliance with Office of Management and Budget (OMB) regulations (5 CFR part 1320) which implement the Paperwork Reduction Act (PRA) (44 U.S.C. chapter 35) the information collection requirements contained in the regulation to be amended have been previously approved by OMB and were assigned control number 0581-0093, National Research, Promotion, and Consumer Information Programs. This rule does not result in a change to the information collection and recordkeeping requirements previously approved.

A 30-day comment period is provided to comment on the changes to the Cotton Board Rules and Regulations herein. This period is deemed appropriate because an amendment is required to adjust the assessments collected on imported cotton and the cotton content of imported products to be the same as those paid on domestically produced cotton.

List of Subjects in 7 CFR Part 1205

Advertising, Agricultural research, Cotton, Marketing agreements, Reporting and recordkeeping requirements.

For the reasons set forth in the preamble, AMS amends 7 CFR part 1205 as follows:

PART 1205—COTTON RESEARCH AND PROMOTION

1. The authority citation for part 1205 continues to read as follows:

Authority: 7 U.S.C. 2101-2118; 7 U.S.C. 7401.

2. In § 1205.510, paragraph (b)(2) and the table in paragraph (b)(3) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is 1.2388 cents per kilogram.

(3) * * *

Table 2 to Paragraph (b)(3)—Import Assessment Table
[Raw cotton fiber]
HTS No. | Conv. factor | Cents/kg.
5007106010 | 0.2713 | 0.3361
5007106020 | 0.2713 | 0.3361
5007906010 | 0.2713 | 0.3361
5007906020 | 0.2713 | 0.3361
5112904000 | 0.1085 | 0.1344
5112905000 | 0.1085 | 0.1344
5112909010 | 0.1085 | 0.1344
5112909090 | 0.1085 | 0.1344
5201000500 | 1 | 1.2388
5201001200 | 1 | 1.2388
5201001400 | 1 | 1.2388
5201001800 | 1 | 1.2388
5201002200 | 1 | 1.2388
5201002400 | 1 | 1.2388
5201002800 | 1 | 1.2388
5201003400 | 1 | 1.2388
5201003800 | 1 | 1.2388
5204110000 | 1.0526 | 1.3040
5204190000 | 0.6316 | 0.7824
5204200000 | 1.0526 | 1.3040
5205111000 | 1 | 1.2388
5205112000 | 1 | 1.2388
5205121000 | 1 | 1.2388
5205122000 | 1 | 1.2388
5205131000 | 1 | 1.2388
5205132000 | 1 | 1.2388
5205141000 | 1 | 1.2388
5205142000 | 1 | 1.2388
5205151000 | 1 | 1.2388
5205152000 | 1 | 1.2388
5205210020 | 1.0440 | 1.2933
5205210090 | 1.0440 | 1.2933
5205220020 | 1.0440 | 1.2933
5205220090 | 1.0440 | 1.2933
5205230020 | 1.0440 | 1.2933
5205230090 | 1.0440 | 1.2933
5205240020 | 1.0440 | 1.2933
5205240090 | 1.0440 | 1.2933
5205260020 | 1.0440 | 1.2933
5205260090 | 1.0440 | 1.2933
5205270020 | 1.0440 | 1.2933
5205270090 | 1.0440 | 1.2933
5205280020 | 1.0440 | 1.2933
5205280090 | 1.0440 | 1.2933
5205310000 | 1 | 1.2388
5205320000 | 1 | 1.2388
5205330000 | 1 | 1.2388
5205340000 | 1 | 1.2388
5205350000 | 1 | 1.2388
5205410020 | 1.0440 | 1.2933
5205410090 | 1.0440 | 1.2933
5205420021 | 1.0440 | 1.2933
5205420029 | 1.0440 | 1.2933
5205420090 | 1.0440 | 1.2933
5205430021 | 1.0440 | 1.2933
5205430029 | 1.0440 | 1.2933
5205430090 | 1.0440 | 1.2933
5205440021 | 1.0440 | 1.2933
5205440029 | 1.0440 | 1.2933
5205440090 | 1.0440 | 1.2933
5205460021 | 1.0440 | 1.2933
5205460029 | 1.0440 | 1.2933
5205460090 | 1.0440 | 1.2933
5205470021 | 1.0440 | 1.2933
5205470029 | 1.0440 | 1.2933
5205470090 | 1.0440 | 1.2933
5205480020 | 1.0440 | 1.2933
5205480090 | 1.0440 | 1.2933
5206110000 | 0.7368 | 0.9128
5206120000 | 0.7368 | 0.9128
5206130000 | 0.7368 | 0.9128
5206140000 | 0.7368 | 0.9128
5206150000 | 0.7368 | 0.9128
5206210000 | 0.7692 | 0.9529
5206220000 | 0.7692 | 0.9529
5206230000 | 0.7692 | 0.9529
5206240000 | 0.7692 | 0.9529
5206250000 | 0.7692 | 0.9529
5206310000 | 0.7368 | 0.9128
5206320000 | 0.7368 | 0.9128
5206330000 | 0.7368 | 0.9128
5206340000 | 0.7368 | 0.9128
5206350000 | 0.7368 | 0.9128
5206410000 | 0.7692 | 0.9529
5206420000 | 0.7692 | 0.9529
5206430000 | 0.7692 | 0.9529
5206440000 | 0.7692 | 0.9529
5206450000 | 0.7692 | 0.9529
5207100000 | 0.9474 | 1.1737
5207900000 | 0.6316 | 0.7824
5208112020 | 1.0852 | 1.3444
5208112040 | 1.0852 | 1.3444
5208112090 | 1.0852 | 1.3444
5208114020 | 1.0852 | 1.3444
5208114040 | 1.0852 | 1.3444
5208114060 | 1.0852 | 1.3444
5208114090 | 1.0852 | 1.3444
5208116000 | 1.0852 | 1.3444
5208118020 | 1.0852 | 1.3444
5208118090 | 1.0852 | 1.3444
5208124020 | 1.0852 | 1.3444
5208124040 | 1.0852 | 1.3444
5208124090 | 1.0852 | 1.3444
5208126020 | 1.0852 | 1.3444
5208126040 | 1.0852 | 1.3444
5208126060 | 1.0852 | 1.3444
5208126090 | 1.0852 | 1.3444
5208128020 | 1.0852 | 1.3444
5208128090 | 1.0852 | 1.3444
5208130000 | 1.0852 | 1.3444
5208192020 | 1.0852 | 1.3444
5208192090 | 1.0852 | 1.3444
5208194020 | 1.0852 | 1.3444
5208194090 | 1.0852 | 1.3444
5208196020 | 1.0852 | 1.3444
5208196090 | 1.0852 | 1.3444
5208198020 | 1.0852 | 1.3444
5208198090 | 1.0852 | 1.3444
5208212020 | 1.0852 | 1.3444
5208212040 | 1.0852 | 1.3444
5208212090 | 1.0852 | 1.3444
5208214020 | 1.0852 | 1.3444
5208214040 | 1.0852 | 1.3444
5208214060 | 1.0852 | 1.3444
5208214090 | 1.0852 | 1.3444
5208216020 | 1.0852 | 1.3444
5208216090 | 1.0852 | 1.3444
5208224020 | 1.0852 | 1.3444
5208224040 | 1.0852 | 1.3444
5208224090 | 1.0852 | 1.3444
5208226020 | 1.0852 | 1.3444
5208226040 | 1.0852 | 1.3444
5208226060 | 1.0852 | 1.3444
5208226090 | 1.0852 | 1.3444
5208228020 | 1.0852 | 1.3444
5208228090 | 1.0852 | 1.3444
5208230000 | 1.0852 | 1.3444
5208292020 | 1.0852 | 1.3444
5208292090 | 1.0852 | 1.3444
5208294020 | 1.0852 | 1.3444
5208294090 | 1.0852 | 1.3444
5208296020 | 1.0852 | 1.3444
5208296090 | 1.0852 | 1.3444
5208298020 | 1.0852 | 1.3444
5208298090 | 1.0852 | 1.3444
5208312000 | 1.0852 | 1.3444
5208314020 | 1.0852 | 1.3444
5208314040 | 1.0852 | 1.3444
5208314090 | 1.0852 | 1.3444
5208316020 | 1.0852 | 1.3444
5208316040 | 1.0852 | 1.3444
5208316060 | 1.0852 | 1.3444
5208316090 | 1.0852 | 1.3444
5208318020 | 1.0852 | 1.3444
5208318090 | 1.0852 | 1.3444
5208321000 | 1.0852 | 1.3444
5208323020 | 1.0852 | 1.3444
5208323040 | 1.0852 | 1.3444
5208323090 | 1.0852 | 1.3444
5208324020 | 1.0852 | 1.3444
5208324040 | 1.0852 | 1.3444
5208324060 | 1.0852 | 1.3444
5208324090 | 1.0852 | 1.3444
5208325020 | 1.0852 | 1.3444
5208325090 | 1.0852 | 1.3444
5208330000 | 1.0852 | 1.3444
5208392020 | 1.0852 | 1.3444
5208392090 | 1.0852 | 1.3444
5208394020 | 1.0852 | 1.3444
5208394090 | 1.0852 | 1.3444
5208396020 | 1.0852 | 1.3444
5208396090 | 1.0852 | 1.3444
5208398020 | 1.0852 | 1.3444
5208398090 | 1.0852 | 1.3444
5208412000 | 1.0852 | 1.3444
5208414000 | 1.0852 | 1.3444
5208416000 | 1.0852 | 1.3444
5208418000 | 1.0852 | 1.3444
5208421000 | 1.0852 | 1.3444
5208423000 | 1.0852 | 1.3444
5208424000 | 1.0852 | 1.3444
5208425000 | 1.0852 | 1.3444
5208430000 | 1.0852 | 1.3444
5208492000 | 1.0852 | 1.3444
5208494010 | 1.0852 | 1.3444
5208494020 | 1.0852 | 1.3444
5208494090 | 1.0852 | 1.3444
5208496010 | 1.0852 | 1.3444
5208496020 | 1.0852 | 1.3444
5208496030 | 1.0852 | 1.3444
5208496090 | 1.0852 | 1.3444
5208498020 | 1.0852 | 1.3444
5208498090 | 1.0852 | 1.3444
5208512000 | 1.0852 | 1.3444
5208514020 | 1.0852 | 1.3444
5208514040 | 1.0852 | 1.3444
5208514090 | 1.0852 | 1.3444
5208516020 | 1.0852 | 1.3444
5208516040 | 1.0852 | 1.3444
5208516060 | 1.0852 | 1.3444
5208516090 | 1.0852 | 1.3444
5208518020 | 1.0852 | 1.3444
5208518090 | 1.0852 | 1.3444
5208521000 | 1.0852 | 1.3444
5208523020 | 1.0852 | 1.3444
5208523035 | 1.0852 | 1.3444
5208523045 | 1.0852 | 1.3444
5208523090 | 1.0852 | 1.3444
5208524020 | 1.0852 | 1.3444
5208524035 | 1.0852 | 1.3444
5208524045 | 1.0852 | 1.3444
5208524055 | 1.0852 | 1.3444
5208524065 | 1.0852 | 1.3444
5208524090 | 1.0852 | 1.3444
5208525020 | 1.0852 | 1.3444
5208525090 | 1.0852 | 1.3444
5208591000 | 1.0852 | 1.3444
5208592015 | 1.0852 | 1.3444
5208592025 | 1.0852 | 1.3444
5208592085 | 1.0852 | 1.3444
5208592095 | 1.0852 | 1.3444
5208594020 | 1.0852 | 1.3444
5208594090 | 1.0852 | 1.3444
5208596020 | 1.0852 | 1.3444
5208596090 | 1.0852 | 1.3444
5208598020 | 1.0852 | 1.3444
5208598090 | 1.0852 | 1.3444
5209110020 | 1.0309 | 1.2771
5209110025 | 1.0309 | 1.2771
5209110035 | 1.0309 | 1.2771
5209110050 | 1.0309 | 1.2771
5209110090 | 1.0309 | 1.2771
5209120020 | 1.0309 | 1.2771
5209120040 | 1.0309 | 1.2771
5209190020 | 1.0309 | 1.2771
5209190040 | 1.0309 | 1.2771
5209190060 | 1.0309 | 1.2771
5209190090 | 1.0309 | 1.2771
5209210020 | 1.0309 | 1.2771
5209210025 | 1.0309 | 1.2771
5209210035 | 1.0309 | 1.2771
5209210050 | 1.0309 | 1.2771
5209210090 | 1.0309 | 1.2771
5209220020 | 1.0309 | 1.2771
5209220040 | 1.0309 | 1.2771
5209290020 | 1.0309 | 1.2771
5209290040 | 1.0309 | 1.2771
5209290060 | 1.0309 | 1.2771
5209290090 | 1.0309 | 1.2771
5209313000 | 1.0309 | 1.2771
5209316020 | 1.0309 | 1.2771
5209316025 | 1.0309 | 1.2771
5209316035 | 1.0309 | 1.2771
5209316050 | 1.0309 | 1.2771
5209316090 | 1.0309 | 1.2771
5209320020 | 1.0309 | 1.2771
5209320040 | 1.0309 | 1.2771
5209390020 | 1.0309 | 1.2771
5209390040 | 1.0309 | 1.2771
5209390060 | 1.0309 | 1.2771
5209390080 | 1.0309 | 1.2771
5209390090 | 1.0309 | 1.2771
5209413000 | 1.0309 | 1.2771
5209416020 | 1.0309 | 1.2771
5209416040 | 1.0309 | 1.2771
5209420020 | 0.9767 | 1.2100
5209420040 | 0.9767 | 1.2100
5209420060 | 0.9767 | 1.2100
5209420080 | 0.9767 | 1.2100
5209430030 | 1.0309 | 1.2771
5209430050 | 1.0309 | 1.2771
5209490020 | 1.0309 | 1.2771
5209490040 | 1.0309 | 1.2771
5209490090 | 1.0309 | 1.2771
5209513000 | 1.0309 | 1.2771
5209516015 | 1.0852 | 1.3444
5209516025 | 1.0852 | 1.3444
5209516032 | 1.0852 | 1.3444
5209516035 | 1.0852 | 1.3444
5209516050 | 1.0852 | 1.3444
5209516090 | 1.0852 | 1.3444
5209520020 | 1.0852 | 1.3444
5209520040 | 1.0852 | 1.3444
5209590015 | 1.0852 | 1.3444
5209590025 | 1.0852 | 1.3444
5209590040 | 1.0852 | 1.3444
5209590060 | 1.0852 | 1.3444
5209590090 | 1.0852 | 1.3444
5210114020 | 0.6511 | 0.8066
5210114040 | 0.6511 | 0.8066
5210114090 | 0.6511 | 0.8066
5210116020 | 0.6511 | 0.8066
5210116040 | 0.6511 | 0.8066
5210116060 | 0.6511 | 0.8066
5210116090 | 0.6511 | 0.8066
5210118020 | 0.6511 | 0.8066
5210118090 | 0.6511 | 0.8066
5210191000 | 0.6511 | 0.8066
5210192020 | 0.6511 | 0.8066
5210192090 | 0.6511 | 0.8066
5210194020 | 0.6511 | 0.8066
5210194090 | 0.6511 | 0.8066
5210196020 | 0.6511 | 0.8066
5210196090 | 0.6511 | 0.8066
5210198020 | 0.6511 | 0.8066
5210198090 | 0.6511 | 0.8066
5210214020 | 0.6511 | 0.8066
5210214040 | 0.6511 | 0.8066
5210214090 | 0.6511 | 0.8066
5210216020 | 0.6511 | 0.8066
5210216040 | 0.6511 | 0.8066
5210216060 | 0.6511 | 0.8066
5210216090 | 0.6511 | 0.8066
5210218020 | 0.6511 | 0.8066
5210218090 | 0.6511 | 0.8066
5210291000 | 0.6511 | 0.8066
5210292020 | 0.6511 | 0.8066
5210292090 | 0.6511 | 0.8066
5210294020 | 0.6511 | 0.8066
5210294090 | 0.6511 | 0.8066
5210296020 | 0.6511 | 0.8066
5210296090 | 0.6511 | 0.8066
5210298020 | 0.6511 | 0.8066
5210298090 | 0.6511 | 0.8066
5210314020 | 0.6511 | 0.8066
5210314040 | 0.6511 | 0.8066
5210314090 | 0.6511 | 0.8066
5210316020 | 0.6511 | 0.8066
5210316040 | 0.6511 | 0.8066
5210316060 | 0.6511 | 0.8066
5210316090 | 0.6511 | 0.8066
5210318020 | 0.6511 | 0.8066
5210318090 | 0.6511 | 0.8066
5210320000 | 0.6511 | 0.8066
5210392020 | 0.6511 | 0.8066
5210392090 | 0.6511 | 0.8066
5210394020 | 0.6511 | 0.8066
5210394090 | 0.6511 | 0.8066
5210396020 | 0.6511 | 0.8066
5210396090 | 0.6511 | 0.8066
5210398020 | 0.6511 | 0.8066
5210398090 | 0.6511 | 0.8066
5210414000 | 0.6511 | 0.8066
5210416000 | 0.6511 | 0.8066
5210418000 | 0.6511 | 0.8066
5210491000 | 0.6511 | 0.8066
5210492000 | 0.6511 | 0.8066
5210494010 | 0.6511 | 0.8066
5210494020 | 0.6511 | 0.8066
5210494090 | 0.6511 | 0.8066
5210496010 | 0.6511 | 0.8066
5210496020 | 0.6511 | 0.8066
5210496090 | 0.6511 | 0.8066
5210498020 | 0.6511 | 0.8066
5210498090 | 0.6511 | 0.8066
5210514020 | 0.6511 | 0.8066
5210514040 | 0.6511 | 0.8066
5210514090 | 0.6511 | 0.8066
5210516020 | 0.6511 | 0.8066
5210516040 | 0.6511 | 0.8066
5210516060 | 0.6511 | 0.8066
5210516090 | 0.6511 | 0.8066
5210518020 | 0.6511 | 0.8066
5210518090 | 0.6511 | 0.8066
5210591000 | 0.6511 | 0.8066
5210592020 | 0.6511 | 0.8066
5210592090 | 0.6511 | 0.8066
5210594020 | 0.6511 | 0.8066
5210594090 | 0.6511 | 0.8066
5210596020 | 0.6511 | 0.8066
5210596090 | 0.6511 | 0.8066
5210598020 | 0.6511 | 0.8066
5210598090 | 0.6511 | 0.8066
5211110020 | 0.6511 | 0.8066
5211110025 | 0.6511 | 0.8066
5211110035 | 0.6511 | 0.8066
5211110050 | 0.6511 | 0.8066
5211110090 | 0.6511 | 0.8066
5211120020 | 0.6511 | 0.8066
5211120040 | 0.6511 | 0.8066
5211190020 | 0.6511 | 0.8066
5211190040 | 0.6511 | 0.8066
5211190060 | 0.6511 | 0.8066
5211190090 | 0.6511 | 0.8066
5211202120 | 0.6511 | 0.8066
5211202125 | 0.6511 | 0.8066
5211202135 | 0.6511 | 0.8066
5211202150 | 0.6511 | 0.8066
5211202190 | 0.6511 | 0.8066
5211202220 | 0.6511 | 0.8066
5211202240 | 0.6511 | 0.8066
5211202920 | 0.6511 | 0.8066
5211202940 | 0.6511 | 0.8066
5211202960 | 0.6511 | 0.8066
5211202990 | 0.6511 | 0.8066
5211310020 | 0.6511 | 0.8066
5211310025 | 0.6511 | 0.8066
5211310035 | 0.6511 | 0.8066
5211310050 | 0.6511 | 0.8066
5211310090 | 0.6511 | 0.8066
5211320020 | 0.6511 | 0.8066
5211320040 | 0.6511 | 0.8066
5211390020 | 0.6511 | 0.8066
5211390040 | 0.6511 | 0.8066
5211390060 | 0.6511 | 0.8066
5211390090 | 0.6511 | 0.8066
5211410020 | 0.6511 | 0.8066
5211410040 | 0.6511 | 0.8066
5211420020 | 0.7054 | 0.8739
5211420040 | 0.7054 | 0.8739
5211420060 | 0.6511 | 0.8066
5211420080 | 0.6511 | 0.8066
5211430030 | 0.6511 | 0.8066
5211430050 | 0.6511 | 0.8066
5211490020 | 0.6511 | 0.8066
5211490090 | 0.6511 | 0.8066
5211510020 | 0.6511 | 0.8066
5211510030 | 0.6511 | 0.8066
5211510050 | 0.6511 | 0.8066
5211510090 | 0.6511 | 0.8066
5211520020 | 0.6511 | 0.8066
5211520040 | 0.6511 | 0.8066
5211590015 | 0.6511 | 0.8066
5211590025 | 0.6511 | 0.8066
5211590040 | 0.6511 | 0.8066
5211590060 | 0.6511 | 0.8066
5211590090 | 0.6511 | 0.8066
5212111010 | 0.5845 | 0.7241
5212111020 | 0.6231 | 0.7719
5212116010 | 0.8681 | 1.0754
5212116020 | 0.8681 | 1.0754
5212116030 | 0.8681 | 1.0754
5212116040 | 0.8681 | 1.0754
5212116050 | 0.8681 | 1.0754
5212116060 | 0.8681 | 1.0754
5212116070 | 0.8681 | 1.0754
5212116080 | 0.8681 | 1.0754
5212116090 | 0.8681 | 1.0754
5212121010 | 0.5845 | 0.7241
5212121020 | 0.6231 | 0.7719
5212126010 | 0.8681 | 1.0754
5212126020 | 0.8681 | 1.0754
5212126030 | 0.8681 | 1.0754
5212126040 | 0.8681 | 1.0754
5212126050 | 0.8681 | 1.0754
5212126060 | 0.8681 | 1.0754
5212126070 | 0.8681 | 1.0754
5212126080 | 0.8681 | 1.0754
5212126090 | 0.8681 | 1.0754
5212131010 | 0.5845 | 0.7241
5212131020 | 0.6231 | 0.7719
5212136010 | 0.8681 | 1.0754
5212136020 | 0.8681 | 1.0754
5212136030 | 0.8681 | 1.0754
5212136040 | 0.8681 | 1.0754
5212136050 | 0.8681 | 1.0754
5212136060 | 0.8681 | 1.0754
5212136070 | 0.8681 | 1.0754
5212136080 | 0.8681 | 1.0754
5212136090 | 0.8681 | 1.0754
5212141010 | 0.5845 | 0.7241
5212141020 | 0.6231 | 0.7719
5212146010 | 0.8681 | 1.0754
5212146020 | 0.8681 | 1.0754
5212146030 | 0.8681 | 1.0754
5212146090 | 0.8681 | 1.0754
5212151010 | 0.5845 | 0.7241
5212151020 | 0.6231 | 0.7719
5212156010 | 0.8681 | 1.0754
5212156020 | 0.8681 | 1.0754
5212156030 | 0.8681 | 1.0754
5212156040 | 0.8681 | 1.0754
5212156050 | 0.8681 | 1.0754
5212156060 | 0.8681 | 1.0754
5212156070 | 0.8681 | 1.0754
5212156080 | 0.8681 | 1.0754
5212156090 | 0.8681 | 1.0754
5212211010 | 0.5845 | 0.7241
5212211020 | 0.6231 | 0.7719
5212216010 | 0.8681 | 1.0754
5212216020 | 0.8681 | 1.0754
5212216030 | 0.8681 | 1.0754
5212216040 | 0.8681 | 1.0754
5212216050 | 0.8681 | 1.0754
5212216060 | 0.8681 | 1.0754
5212216090 | 0.8681 | 1.0754
5212221010 | 0.5845 | 0.7241
5212221020 | 0.6231 | 0.7719
5212226010 | 0.8681 | 1.0754
5212226020 | 0.8681 | 1.0754
5212226030 | 0.8681 | 1.0754
5212226040 | 0.8681 | 1.0754
5212226050 | 0.8681 | 1.0754
5212226060 | 0.8681 | 1.0754
5212226090 | 0.8681 | 1.0754
5212231010 | 0.5845 | 0.7241
5212231020 | 0.6231 | 0.7719
5212236010 | 0.8681 | 1.0754
5212236020 | 0.8681 | 1.0754
5212236030 | 0.8681 | 1.0754
5212236040 | 0.8681 | 1.0754
5212236050 | 0.8681 | 1.0754
5212236060 | 0.8681 | 1.0754
5212236090 | 0.8681 | 1.0754
5212241010 | 0.5845 | 0.7241
5212241020 | 0.6231 | 0.7719
5212246010 | 0.8681 | 1.0754
5212246020 | 0.7054 | 0.8739
5212246030 | 0.8681 | 1.0754
5212246040 | 0.8681 | 1.0754
5212246090 | 0.8681 | 1.0754
5212251010 | 0.5845 | 0.7241
5212251020 | 0.6231 | 0.7719
5212256010 | 0.8681 | 1.0754
5212256020 | 0.8681 | 1.0754
5212256030 | 0.8681 | 1.0754
5212256040 | 0.8681 | 1.0754
5212256050 | 0.8681 | 1.0754
5212256060 | 0.8681 | 1.0754
5212256090 | 0.8681 | 1.0754
5309213005 | 0.5426 | 0.6722
5309213010 | 0.5426 | 0.6722
5309213015 | 0.5426 | 0.6722
5309213020 | 0.5426 | 0.6722
5309214010 | 0.2713 | 0.3361
5309214090 | 0.2713 | 0.3361
5309293005 | 0.5426 | 0.6722
5309293010 | 0.5426 | 0.6722
5309293015 | 0.5426 | 0.6722
5309293020 | 0.5426 | 0.6722
5309294010 | 0.2713 | 0.3361
5309294090 | 0.2713 | 0.3361
5311003005 | 0.5426 | 0.6722
5311003010 | 0.5426 | 0.6722
5311003015 | 0.5426 | 0.6722
5311003020 | 0.5426 | 0.6722
5311004010 | 0.8681 | 1.0754
5311004020 | 0.8681 | 1.0754
5407810010 | 0.5426 | 0.6722
5407810020 | 0.5426 | 0.6722
5407810030 | 0.5426 | 0.6722
5407810040 | 0.5426 | 0.6722
5407810090 | 0.5426 | 0.6722
5407820010 | 0.5426 | 0.6722
5407820020 | 0.5426 | 0.6722
5407820030 | 0.5426 | 0.6722
5407820040 | 0.5426 | 0.6722
5407820090 | 0.5426 | 0.6722
5407830010 | 0.5426 | 0.6722
5407830020 | 0.5426 | 0.6722
5407830030 | 0.5426 | 0.6722
5407830040 | 0.5426 | 0.6722
5407830090 | 0.5426 | 0.6722
5407840010 | 0.5426 | 0.6722
5407840020 | 0.5426 | 0.6722
5407840030 | 0.5426 | 0.6722
5407840040 | 0.5426 | 0.6722
5407840090 | 0.5426 | 0.6722
5509210000 | 0.1053 | 0.1304
5509220010 | 0.1053 | 0.1304
5509220090 | 0.1053 | 0.1304
5509530030 | 0.3158 | 0.3912
5509530060 | 0.3158 | 0.3912
5509620000 | 0.5263 | 0.6520
5509920000 | 0.5263 | 0.6520
5510300000 | 0.3684 | 0.4564
5511200000 | 0.3158 | 0.3912
5512110010 | 0.1085 | 0.1344
5512110022 | 0.1085 | 0.1344
5512110027 | 0.1085 | 0.1344
5512110030 | 0.1085 | 0.1344
5512110040 | 0.1085 | 0.1344
5512110050 | 0.1085 | 0.1344
5512110060 | 0.1085 | 0.1344
5512110070 | 0.1085 | 0.1344
5512110090 | 0.1085 | 0.1344
5512190005 | 0.1085 | 0.1344
5512190010 | 0.1085 | 0.1344
5512190015 | 0.1085 | 0.1344
5512190022 | 0.1085 | 0.1344
5512190027 | 0.1085 | 0.1344
5512190030 | 0.1085 | 0.1344
5512190035 | 0.1085 | 0.1344
5512190040 | 0.1085 | 0.1344
5512190045 | 0.1085 | 0.1344
5512190050 | 0.1085 | 0.1344
5512190090 | 0.1085 | 0.1344
5512210010 | 0.0326 | 0.0404
5512210020 | 0.0326 | 0.0404
5512210030 | 0.0326 | 0.0404
5512210040 | 0.0326 | 0.0404
5512210060 | 0.0326 | 0.0404
5512210070 | 0.0326 | 0.0404
5512210090 | 0.0326 | 0.0404
5512290010 | 0.2170 | 0.2688
5512910010 | 0.0543 | 0.0673
5512990005 | 0.0543 | 0.0673
5512990010 | 0.0543 | 0.0673
5512990015 | 0.0543 | 0.0673
5512990020 | 0.0543 | 0.0673
5512990025 | 0.0543 | 0.0673
5512990030 | 0.0543 | 0.0673
5512990035 | 0.0543 | 0.0673
5512990040 | 0.0543 | 0.0673
5512990045 | 0.0543 | 0.0673
5512990090 | 0.0543 | 0.0673
5513110020 | 0.3581 | 0.4436
5513110040 | 0.3581 | 0.4436
5513110060 | 0.3581 | 0.4436
5513110090 | 0.3581 | 0.4436
5513120000 | 0.3581 | 0.4436
5513130020 | 0.3581 | 0.4436
5513130040 | 0.3581 | 0.4436
5513130090 | 0.3581 | 0.4436
5513190010 | 0.3581 | 0.4436
5513190020 | 0.3581 | 0.4436
5513190030 | 0.3581 | 0.4436
5513190040 | 0.3581 | 0.4436
5513190050 | 0.3581 | 0.4436
5513190060 | 0.3581 | 0.4436
5513190090 | 0.3581 | 0.4436
5513210020 | 0.3581 | 0.4436
5513210040 | 0.3581 | 0.4436
5513210060 | 0.3581 | 0.4436
5513210090 | 0.3581 | 0.4436
5513230121 | 0.3581 | 0.4436
5513230141 | 0.3581 | 0.4436
5513230191 | 0.3581 | 0.4436
5513290010 | 0.3581 | 0.4436
5513290020 | 0.3581 | 0.4436
5513290030 | 0.3581 | 0.4436
5513290040 | 0.3581 | 0.4436
5513290050 | 0.3581 | 0.4436
5513290060 | 0.3581 | 0.4436
5513290090 | 0.3581 | 0.4436
5513310000 | 0.3581 | 0.4436
5513390111 | 0.3581 | 0.4436
5513390115 | 0.3581 | 0.4436
5513390191 | 0.3581 | 0.4436
5513410020 | 0.3581 | 0.4436
5513410040 | 0.3581 | 0.4436
5513410060 | 0.3581 | 0.4436
5513410090 | 0.3581 | 0.4436
5513491000 | 0.3581 | 0.4436
5513492020 | 0.3581 | 0.4436
5513492040 | 0.3581 | 0.4436
5513492090 | 0.3581 | 0.4436
5513499010 | 0.3581 | 0.4436
5513499020 | 0.3581 | 0.4436
5513499030 | 0.3581 | 0.4436
5513499040 | 0.3581 | 0.4436
5513499050 | 0.3581 | 0.4436
5513499060 | 0.3581 | 0.4436
5513499090 | 0.3581 | 0.4436
5514110020 | 0.4341 | 0.5378
5514110030 | 0.4341 | 0.5378
5514110050 | 0.4341 | 0.5378
5514110090 | 0.4341 | 0.5378
5514120020 | 0.4341 | 0.5378
5514120040 | 0.4341 | 0.5378
5514191020 | 0.4341 | 0.5378
5514191040 | 0.4341 | 0.5378
5514191090 | 0.4341 | 0.5378
5514199010 | 0.4341 | 0.5378
5514199020 | 0.4341 | 0.5378
5514199030 | 0.4341 | 0.5378
5514199040 | 0.4341 | 0.5378
5514199090 | 0.4341 | 0.5378
5514210020 | 0.4341 | 0.5378
5514210030 | 0.4341 | 0.5378
5514210050 | 0.4341 | 0.5378
5514210090 | 0.4341 | 0.5378
5514220020 | 0.4341 | 0.5378
5514220040 | 0.4341 | 0.5378
5514230020 | 0.4341 | 0.5378
5514230040 | 0.4341 | 0.5378
5514230090 | 0.4341 | 0.5378
5514290010 | 0.4341 | 0.5378
5514290020 | 0.4341 | 0.5378
5514290030 | 0.4341 | 0.5378
5514290040 | 0.4341 | 0.5378
5514290090 | 0.4341 | 0.5378
5514303100 | 0.4341 | 0.5378
5514303210 | 0.4341 | 0.5378
5514303215 | 0.4341 | 0.5378
5514303280 | 0.4341 | 0.5378
5514303310 | 0.4341 | 0.5378
5514303390 | 0.4341 | 0.5378
5514303910 | 0.4341 | 0.5378
5514303920 | 0.4341 | 0.5378
5514303990 | 0.4341 | 0.5378
5514410020 | 0.4341 | 0.5378
5514410030 | 0.4341 | 0.5378
5514410050 | 0.4341 | 0.5378
5514410090 | 0.4341 | 0.5378
5514420020 | 0.4341 | 0.5378
5514420040 | 0.4341 | 0.5378
5514430020 | 0.4341 | 0.5378
5514430040 | 0.4341 | 0.5378
5514430090 | 0.4341 | 0.5378
5514490010 | 0.4341 | 0.5378
5514490020 | 0.4341 | 0.5378
5514490030 | 0.4341 | 0.5378
5514490040 | 0.4341 | 0.5378
5514490090 | 0.4341 | 0.5378
5515110005 | 0.1085 | 0.1344
5515110010 | 0.1085 | 0.1344
5515110015 | 0.1085 | 0.1344
5515110020 | 0.1085 | 0.1344
5515110025 | 0.1085 | 0.1344
5515110030 | 0.1085 | 0.1344
5515110035 | 0.1085 | 0.1344
5515110040 | 0.1085 | 0.1344
5515110045 | 0.1085 | 0.1344
5515110090 | 0.1085 | 0.1344
5515120010 | 0.1085 | 0.1344
5515120022 | 0.1085 | 0.1344
5515120027 | 0.1085 | 0.1344
5515120030 | 0.1085 | 0.1344
5515120040 | 0.1085 | 0.1344
5515120090 | 0.1085 | 0.1344
5515190005 | 0.1085 | 0.1344
5515190010 | 0.1085 | 0.1344
5515190015 | 0.1085 | 0.1344
5515190020 | 0.1085 | 0.1344
5515190025 | 0.1085 | 0.1344
5515190030 | 0.1085 | 0.1344
5515190035 | 0.1085 | 0.1344
5515190040 | 0.1085 | 0.1344
5515190045 | 0.1085 | 0.1344
5515190090 | 0.1085 | 0.1344
5515290005 | 0.1085 | 0.1344
5515290010 | 0.1085 | 0.1344
5515290015 | 0.1085 | 0.1344
5515290020 | 0.1085 | 0.1344
5515290025 | 0.1085 | 0.1344
5515290030 | 0.1085 | 0.1344
5515290035 | 0.1085 | 0.1344
5515290040 | 0.1085 | 0.1344
5515290045 | 0.1085 | 0.1344
5515290090 | 0.1085 | 0.1344
5515999005 | 0.1085 | 0.1344
5515999010 | 0.1085 | 0.1344
5515999015 | 0.1085 | 0.1344
5515999020 | 0.1085 | 0.1344
5515999025 | 0.1085 | 0.1344
5515999030 | 0.1085 | 0.1344
5515999035 | 0.1085 | 0.1344
5515999040 | 0.1085 | 0.1344
5515999045 | 0.1085 | 0.1344
5515999090 | 0.1085 | 0.1344
5516210010 | 0.1085 | 0.1344
5516210020 | 0.1085 | 0.1344
5516210030 | 0.1085 | 0.1344
5516210040 | 0.1085 | 0.1344
5516210090 | 0.1085 | 0.1344
5516220010 | 0.1085 | 0.1344
5516220020 | 0.1085 | 0.1344
5516220030 | 0.1085 | 0.1344
5516220040 | 0.1085 | 0.1344
5516220090 | 0.1085 | 0.1344
5516230010 | 0.1085 | 0.1344
5516230020 | 0.1085 | 0.1344
5516230030 | 0.1085 | 0.1344
5516230040 | 0.1085 | 0.1344
5516230090 | 0.1085 | 0.1344
5516240010 | 0.1085 | 0.1344
5516240020 | 0.1085 | 0.1344
5516240030 | 0.1085 | 0.1344
5516240040 | 0.1085 | 0.1344
5516240085 | 0.1085 | 0.1344
5516240095 | 0.1085 | 0.1344
5516410010 | 0.3798 | 0.4705
5516410022 | 0.3798 | 0.4705
5516410027 | 0.3798 | 0.4705
5516410030 | 0.3798 | 0.4705
5516410040 | 0.3798 | 0.4705
5516410050 | 0.3798 | 0.4705
5516410060 | 0.3798 | 0.4705
5516410070 | 0.3798 | 0.4705
5516410090 | 0.3798 | 0.4705
5516420010 | 0.3798 | 0.4705
5516420022 | 0.3798 | 0.4705
5516420027 | 0.3798 | 0.4705
5516420030 | 0.3798 | 0.4705
5516420040 | 0.3798 | 0.4705
5516420050 | 0.3798 | 0.4705
5516420060 | 0.3798 | 0.4705
5516420070 | 0.3798 | 0.4705
5516420090 | 0.3798 | 0.4705
5516430010 | 0.2170 | 0.2688
5516430015 | 0.3798 | 0.4705
5516430020 | 0.3798 | 0.4705
5516430035 | 0.3798 | 0.4705
5516430080 | 0.3798 | 0.4705
5516440010 | 0.3798 | 0.4705
5516440022 | 0.3798 | 0.4705
5516440027 | 0.3798 | 0.4705
5516440030 | 0.3798 | 0.4705
5516440040 | 0.3798 | 0.4705
5516440050 | 0.3798 | 0.4705
5516440060 | 0.3798 | 0.4705
5516440070 | 0.3798 | 0.4705
5516440090 | 0.3798 | 0.4705
5516910010 | 0.0543 | 0.0673
5516910020 | 0.0543 | 0.0673
5516910030 | 0.0543 | 0.0673
5516910040 | 0.0543 | 0.0673
5516910050 | 0.0543 | 0.0673
5516910060 | 0.0543 | 0.0673
5516910070 | 0.0543 | 0.0673
5516910090 | 0.0543 | 0.0673
5516920010 | 0.0543 | 0.0673
5516920020 | 0.0543 | 0.0673
5516920030 | 0.0543 | 0.0673
5516920040 | 0.0543 | 0.0673
5516920050 | 0.0543 | 0.0673
5516920060 | 0.0543 | 0.0673
5516920070 | 0.0543 | 0.0673
5516920090 | 0.0543 | 0.0673
5516930010 | 0.0543 | 0.0673
5516930020 | 0.0543 | 0.0673
5516930090 | 0.0543 | 0.0673
5516940010 | 0.0543 | 0.0673
5516940020 | 0.0543 | 0.0673
5516940030 | 0.0543 | 0.0673
5516940040 | 0.0543 | 0.0673
5516940050 | 0.0543 | 0.0673
5516940060 | 0.0543 | 0.0673
5516940070 | 0.0543 | 0.0673
5516940090 | 0.0543 | 0.0673
5601210010 | 0.9767 | 1.2100
5601210090 | 0.9767 | 1.2100
5601220010 | 0.1085 | 0.1344
5601220050 | 0.1085 | 0.1344
5601220091 | 0.1085 | 0.1344
5601300000 | 0.3256 | 0.4034
5602101000 | 0.0543 | 0.0673
5602109090 | 0.4341 | 0.5378
5602290000 | 0.4341 | 0.5378
5602909000 | 0.3256 | 0.4034
5603143000 | 0.2713 | 0.3361
5603910010 | 0.0217 | 0.0269
5603910090 | 0.0651 | 0.0806
5603920010 | 0.0217 | 0.0269
5603920070 | 0.0651 | 0.0806
5603920095 | 0.0651 | 0.0806
5603930010 | 0.0217 | 0.0269
5603930090 | 0.0651 | 0.0806
5603941090 | 0.3256 | 0.4034
5603943000 | 0.1628 | 0.2017
5603949010 | 0.0326 | 0.0404
5604100000 | 0.2632 | 0.3261
5604909000 | 0.2105 | 0.2608
5605009000 | 0.1579 | 0.1956
5606000010 | 0.1263 | 0.1565
5606000090 | 0.1263 | 0.1565
5607502500 | 0.1684 | 0.2086
5607909000 | 0.8421 | 1.0432
5608901000 | 1.0526 | 1.3040
5608902300 | 0.6316 | 0.7824
5608902700 | 0.6316 | 0.7824
5608903000 | 0.3158 | 0.3912
5609001000 | 0.8421 | 1.0432
5609004000 | 0.2105 | 0.2608
5701101300 | 0.0526 | 0.0652
5701101600 | 0.0526 | 0.0652
5701104000 | 0.0526 | 0.0652
5701109000 | 0.0526 | 0.0652
5701901010 | 1 | 1.2388
5701901020 | 1 | 1.2388
5701901030 | 0.0526 | 0.0652
5701901090 | 0.0526 | 0.0652
5701902010 | 0.9474 | 1.1737
5701902020 | 0.9474 | 1.1737
5701902030 | 0.0526 | 0.0652
5701902090 | 0.0526 | 0.0652
5702101000 | 0.0447 | 0.0554
5702109010 | 0.0447 | 0.0554
5702109020 | 0.8500 | 1.0530
5702109030 | 0.0447 | 0.0554
5702109090 | 0.0447 | 0.0554
5702201000 | 0.0447 | 0.0554
5702311000 | 0.0447 | 0.0554
5702312000 | 0.0895 | 0.1109
5702322000 | 0.0895 | 0.1109
5702391000 | 0.0895 | 0.1109
5702392010 | 0.8053 | 0.9976
5702392090 | 0.0447 | 0.0554
5702411000 | 0.0447 | 0.0554
5702412000 | 0.0447 | 0.0554
5702421000 | 0.0895 | 0.1109
5702422020 | 0.0895 | 0.1109
5702422080 | 0.0895 | 0.1109
5702491020 | 0.8947 | 1.1084
5702491080 | 0.8947 | 1.1084
5702492000 | 0.0895 | 0.1109
5702502000 | 0.0895 | 0.1109
5702504000 | 0.0447 | 0.0554
5702505200 | 0.0895 | 0.1109
5702505600 | 0.8500 | 1.0530
5702912000 | 0.0447 | 0.0554
5702913000 | 0.0447 | 0.0554
5702914000 | 0.0447 | 0.0554
5702921000 | 0.0447 | 0.0554
5702929000 | 0.0447 | 0.0554
5702990500 | 0.8947 | 1.1084
5702991500 | 0.8947 | 1.1084
5703291000 | 0.0452 | 0.0560
5703292010 | 0.0452 | 0.0560
5703391000 | 0.0452 | 0.0560
5703900000 | 0.3615 | 0.4478
5705001000 | 0.0452 | 0.0560
5705002005 | 0.0452 | 0.0560
5705002015 | 0.0452 | 0.0560
5705002020 | 0.7682 | 0.9517
5705002030 | 0.0452 | 0.0560
5705002090 | 0.1808 | 0.2240
5801210000 | 0.9767 | 1.2100
5801221000 | 0.9767 | 1.2100
5801229000 | 0.9767 | 1.2100
5801230000 | 0.9767 | 1.2100
5801260010 | 0.7596 | 0.9410
5801260020 | 0.7596 | 0.9410
5801271000 | 0.9767 | 1.2100
5801275010 | 1.0852 | 1.3444
5801275020 | 0.9767 | 1.2100
5801310000 | 0.2170 | 0.2688
5801320000 | 0.2170 | 0.2688
5801330000 | 0.2170 | 0.2688
5801360010 | 0.2170 | 0.2688
5801360020 | 0.2170 | 0.2688
5802101000 | 1.0309 | 1.2771
5802109000 | 1.0309 | 1.2771
5802200020 | 0.1085 | 0.1344
5802200090 | 0.3256 | 0.4034
5802300030 | 0.4341 | 0.5378
5802300090 | 0.1085 | 0.1344
5803001000 | 1.0852 | 1.3444
5803002000 | 0.8681 | 1.0754
5803003000 | 0.8681 | 1.0754
5803005000 | 0.3256 | 0.4034
5804101000 | 0.4341 | 0.5378
5804109090 | 0.2193 | 0.2717
5804291000 | 0.8772 | 1.0867
5804300020 | 0.3256 | 0.4034
5805001000 | 0.1085 | 0.1344
5805003000 | 1.0852 | 1.3444
5806101000 | 0.8681 | 1.0754
5806103090 | 0.2170 | 0.2688
5806200010 | 0.2577 | 0.3192
5806200090 | 0.2577 | 0.3192
5806310000 | 0.8681 | 1.0754
5806393080 | 0.2170 | 0.2688
5806400000 | 0.0814 | 0.1008
5807100510 | 0.8681 | 1.0754
5807102010 | 0.8681 | 1.0754
5807900510 | 0.8681 | 1.0754
5807902010 | 0.8681 | 1.0754
5808104000 | 0.2170 | 0.2688
5808107000 | 0.2170 | 0.2688
5808900010 | 0.4341 | 0.5378
5810100000 | 0.3256 | 0.4034
5810910010 | 0.7596 | 0.9410
5810910020 | 0.7596 | 0.9410
5810921000 | 0.2170 | 0.2688
5810929030 | 0.2170 | 0.2688
5810929050 | 0.2170 | 0.2688
5810929080 | 0.2170 | 0.2688
5811002000 | 0.8681 | 1.0754
5901102000 | 0.5643 | 0.6991
5901904000 | 0.8139 | 1.0083
5903101000 | 0.4341 | 0.5378
5903103000 | 0.1085 | 0.1344
5903201000 | 0.4341 | 0.5378
5903203090 | 0.1085 | 0.1344
5903901000 | 0.4341 | 0.5378
5903903090 | 0.1085 | 0.1344
5904901000 | 0.0326 | 0.0404
5905001000 | 0.1085 | 0.1344
5905009000 | 0.1085 | 0.1344
5906100000 | 0.4341 | 0.5378
5906911000 | 0.4341 | 0.5378
5906913000 | 0.1085 | 0.1344
5906991000 | 0.4341 | 0.5378
5906993000 | 0.1085 | 0.1344
5907002500 | 0.3798 | 0.4705
5907003500 | 0.3798 | 0.4705
5907008090 | 0.3798 | 0.4705
5908000000 | 0.7813 | 0.9679
5909001000 | 0.6837 | 0.8470
5909002000 | 0.4883 | 0.6049
5910001010 | 0.3798 | 0.4705
5910001020 | 0.3798 | 0.4705
5910001030 | 0.3798 | 0.4705
5910001060 | 0.3798 | 0.4705
5910001070 | 0.3798 | 0.4705
5910001090 | 0.6837 | 0.8470
5910009000 | 0.5697 | 0.7058
5911101000 | 0.1736 | 0.2151
5911102000 | 0.0434 | 0.0538
5911201000 | 0.4341 | 0.5378
5911310010 | 0.4341 | 0.5378
5911310020 | 0.4341 | 0.5378
5911310030 | 0.4341 | 0.5378
5911310080 | 0.4341 | 0.5378
5911320010 | 0.4341 | 0.5378
5911320020 | 0.4341 | 0.5378
5911320030 | 0.4341 | 0.5378
5911320080 | 0.4341 | 0.5378
5911400100 | 0.5426 | 0.6722
5911900040 | 0.3158 | 0.3912
5911900080 | 0.2105 | 0.2608
6001106000 | 0.1096 | 0.1358
6001210000 | 0.9868 | 1.2225
6001220000 | 0.1096 | 0.1358
6001290000 | 0.1096 | 0.1358
6001910010 | 0.8772 | 1.0867
6001910020 | 0.8772 | 1.0867
6001920010 | 0.0548 | 0.0679
6001920020 | 0.0548 | 0.0679
6001920030 | 0.0548 | 0.0679
6001920040 | 0.0548 | 0.0679
6001999000 | 0.1096 | 0.1358
6002404000 | 0.7401 | 0.9169
6002408020 | 0.1974 | 0.2445
6002408080 | 0.1974 | 0.2445
6002904000 | 0.7895 | 0.9780
6002908020 | 0.1974 | 0.2445
6002908080 | 0.1974 | 0.2445
6003201000 | 0.8772 | 1.0867
6003203000 | 0.8772 | 1.0867
6003301000 | 0.1096 | 0.1358
6003306000 | 0.1096 | 0.1358
6003401000 | 0.1096 | 0.1358
6003406000 | 0.1096 | 0.1358
6003901000 | 0.1096 | 0.1358
6003909000 | 0.1096 | 0.1358
6004100010 | 0.2961 | 0.3668
6004100025 | 0.2961 | 0.3668
6004100085 | 0.2961 | 0.3668
6004902010 | 0.2961 | 0.3668
6004902025 | 0.2961 | 0.3668
6004902085 | 0.2961 | 0.3668
6004909000 | 0.2961 | 0.3668
6005210000 | 0.7127 | 0.8829
6005220000 | 0.7127 | 0.8829
6005230000 | 0.7127 | 0.8829
6005240000 | 0.7127 | 0.8829
6005360010 | 0.1096 | 0.1358
6005360080 | 0.1096 | 0.1358
6005370010 | 0.1096 | 0.1358
6005370080 | 0.1096 | 0.1358
6005380010 | 0.1096 | 0.1358
6005380080 | 0.1096 | 0.1358
6005390010 | 0.1096 | 0.1358
6005390080 | 0.1096 | 0.1358
6005410010 | 0.1096 | 0.1358
6005410080 | 0.1096 | 0.1358
6005420010 | 0.1096 | 0.1358
6005420080 | 0.1096 | 0.1358
6005430010 | 0.1096 | 0.1358
6005430080 | 0.1096 | 0.1358
6005440010 | 0.1096 | 0.1358
6005440080 | 0.1096 | 0.1358
6005909000 | 0.1096 | 0.1358
6006211000 | 1.0965 | 1.3584
6006219020 | 0.7675 | 0.9508
6006219080 | 0.7675 | 0.9508
6006221000 | 1.0965 | 1.3584
6006229020 | 0.7675 | 0.9508
6006229080 | 0.7675 | 0.9508
6006231000 | 1.0965 | 1.3584
6006239020 | 0.7675 | 0.9508
6006239080 | 0.7675 | 0.9508
6006241000 | 1.0965 | 1.3584
6006249020 | 0.7675 | 0.9508
6006249080 | 0.7675 | 0.9508
6006310020 | 0.3289 | 0.4074
6006310040 | 0.3289 | 0.4074
6006310060 | 0.3289 | 0.4074
6006310080 | 0.3289 | 0.4074
6006320020 | 0.3289 | 0.4074
6006320040 | 0.3289 | 0.4074
6006320060 | 0.3289 | 0.4074
6006320080 | 0.3289 | 0.4074
6006330020 | 0.3289 | 0.4074
6006330040 | 0.3289 | 0.4074
6006330060 | 0.3289 | 0.4074
6006330080 | 0.3289 | 0.4074
6006340020 | 0.3289 | 0.4074
6006340040 | 0.3289 | 0.4074
6006340060 | 0.3289 | 0.4074
6006340080 | 0.3289 | 0.4074
6006410025 | 0.3289 | 0.4074
6006410085 | 0.3289 | 0.4074
6006420025 | 0.3289 | 0.4074
6006420085 | 0.3289 | 0.4074
6006430025 | 0.3289 | 0.4074
6006430085 | 0.3289 | 0.4074
6006440025 | 0.3289 | 0.4074
6006440085 | 0.3289 | 0.4074
6006909000 | 0.1096 | 0.1358
6101200010 | 1.0200 | 1.2636
6101200020 | 1.0200 | 1.2636
6101301000 | 0.2072 | 0.2567
6101900500 | 0.1912 | 0.2369
6101909010 | 0.5737 | 0.7107
6101909030 | 0.5100 | 0.6318
6101909060 | 0.2550 | 0.3159
6102100000 | 0.2550 | 0.3159
6102200010 | 0.9562 | 1.1846
6102200020 | 0.9562 | 1.1846
6102300500 | 0.1785 | 0.2211
6102909005 | 0.5737 | 0.7107
6102909015 | 0.4462 | 0.5528
6102909030 | 0.2550 | 0.3159
6103101000 | 0.0637 | 0.0789
6103104000 | 0.1218 | 0.1509
6103105000 | 0.1218 | 0.1509
6103106010 | 0.8528 | 1.0565
6103106015 | 0.8528 | 1.0565
6103106030 | 0.8528 | 1.0565
6103109010 | 0.5482 | 0.6791
6103109020 | 0.5482 | 0.6791
6103109030 | 0.5482 | 0.6791
6103109040 | 0.1218 | 0.1509
6103109050 | 0.1218 | 0.1509
6103109080 | 0.1827 | 0.2263
6103220040 | 0.7919 | 0.9810
6103220050 | 0.7919 | 0.9810
6103220080 | 0.9747 | 1.2075
6103230040 | 0.2437 | 0.3019
6103230045 | 0.2437 | 0.3019
6103230070 | 0.1218 | 0.1509
6103230075 | 0.3655 | 0.4528
6103292054 | 0.1218 | 0.1509
6103320000 | 0.8722 | 1.0805
6103398010 | 0.7476 | 0.9261
6103398030 | 0.3738 | 0.4631
6103398060 | 0.2492 | 0.3087
6103411010 | 0.3576 | 0.4430
6103411020 | 0.3576 | 0.4430
6103412000 | 0.3576 | 0.4430
6103421020 | 0.8343 | 1.0335
6103421035 | 0.8343 | 1.0335
6103421040 | 0.8343 | 1.0335
6103421050 | 0.8343 | 1.0335
6103421065 | 0.8343 | 1.0335
6103421070 | 0.8343 | 1.0335
6103422010 | 0.8343 | 1.0335
6103422015 | 0.8343 | 1.0335
6103422025 | 0.8343 | 1.0335
6103431520 | 0.2384 | 0.2953
6103431535 | 0.2384 | 0.2953
6103431540 | 0.2384 | 0.2953
6103431550 | 0.2384 | 0.2953
6103431565 | 0.2384 | 0.2953
6103431570 | 0.2384 | 0.2953
6103432020 | 0.2384 | 0.2953
6103432025 | 0.2384 | 0.2953
6103491020 | 0.2437 | 0.3019
6103491060 | 0.2437 | 0.3019
6103492000 | 0.2437 | 0.3019
6103498010 | 0.5482 | 0.6791
6103498014 | 0.3655 | 0.4528
6103498024 | 0.2437 | 0.3019
6103498026 | 0.2437 | 0.3019
6103498034 | 0.5482 | 0.6791
6103498038 | 0.3655 | 0.4528
6103498060 | 0.2437 | 0.3019
6104196010 | 0.8722 | 1.0805
6104196020 | 0.8722 | 1.0805
6104196030 | 0.8722 | 1.0805
6104196040 | 0.8722 | 1.0805
6104198010 | 0.5607 | 0.6946
6104198020 | 0.5607 | 0.6946
6104198030 | 0.5607 | 0.6946
6104198040 | 0.5607 | 0.6946
6104198060 | 0.3738 | 0.4631
6104198090 | 0.2492 | 0.3087
6104220010 | 0.8528 | 1.0565
6104220030 | 0.8528 | 1.0565
6104220040 | 0.8528 | 1.0565
6104220050 | 0.8528 | 1.0565
6104220060 | 0.8528 | 1.0565
6104220080 | 0.7310 | 0.9056
6104220090 | 0.8528 | 1.0565
6104230020 | 0.1218 | 0.1509
6104230026 | 0.1218 | 0.1509
6104230030 | 0.1218 | 0.1509
6104230032 | 0.1827 | 0.2263
6104230034 | 0.1827 | 0.2263
6104230036 | 0.1827 | 0.2263
6104291010 | 0.1218 | 0.1509
6104291020 | 0.1218 | 0.1509
6104291050 | 0.1827 | 0.2263
6104320000 | 0.8722 | 1.0805
6104392010 | 0.5607 | 0.6946
6104392030 | 0.3738 | 0.4631
6104392090 | 0.2492 | 0.3087
6104420010 | 0.8528 | 1.0565
6104420020 | 0.8528 | 1.0565
6104499010 | 0.5482 | 0.6791
6104499030 | 0.3655 | 0.4528
6104499060 | 0.2437 | 0.3019
6104520010 | 0.8822 | 1.0929
6104520020 | 0.8822 | 1.0929
6104598010 | 0.5672 | 0.7027
6104598030 | 0.3781 | 0.4684
6104598090 | 0.2521 | 0.3123
6104610010 | 0.2384 | 0.2953
6104610020 | 0.2384 | 0.2953
6104610030 | 0.2384 | 0.2953
6104621010 | 0.7509 | 0.9302
6104621020 | 0.8343 | 1.0335
6104621030 | 0.8343 | 1.0335
6104622006 | 0.7151 | 0.8859
6104622011 | 0.8343 | 1.0335
6104622016 | 0.7151 | 0.8859
6104622021 | 0.8343 | 1.0335
6104622026 | 0.7151 | 0.8859
6104622028 | 0.8343 | 1.0335
6104622030 | 0.8343 | 1.0335
6104622050 | 0.8343 | 1.0335
6104622060 | 0.8343 | 1.0335
6104631020 | 0.2384 | 0.2953
6104631030 | 0.2384 | 0.2953
6104632006 | 0.8343 | 1.0335
6104632011 | 0.8343 | 1.0335
6104632016 | 0.7151 | 0.8859
6104632021 | 0.8343 | 1.0335
6104632026 | 0.3576 | 0.4430
6104632028 | 0.3576 | 0.4430
6104632030 | 0.3576 | 0.4430
6104632050 | 0.7151 | 0.8859
6104632060 | 0.3576 | 0.4430
6104691000 | 0.3655 | 0.4528
6104692030 | 0.3655 | 0.4528
6104692060 | 0.3655 | 0.4528
6104698010 | 0.5482 | 0.6791
6104698014 | 0.3655 | 0.4528
6104698020 | 0.2437 | 0.3019
6104698022 | 0.5482 | 0.6791
6104698026 | 0.3655 | 0.4528
6104698038 | 0.2437 | 0.3019
6104698040 | 0.2437 | 0.3019
6105100010 | 0.9332 | 1.1561
6105100020 | 0.9332 | 1.1561
6105100030 | 0.9332 | 1.1561
6105202010 | 0.2916 | 0.3612
6105202020 | 0.2916 | 0.3612
6105202030 | 0.2916 | 0.3612
6105908010 | 0.5249 | 0.6503
6105908030 | 0.3499 | 0.4335
6105908060 | 0.2333 | 0.2890
6106100010 | 0.9332 | 1.1561
6106100020 | 0.9332 | 1.1561
6106100030 | 0.9332 | 1.1561
6106202010 | 0.2916 | 0.3612
6106202020 | 0.4666 | 0.5780
6106202030 | 0.2916 | 0.3612
6106901500 | 0.0583 | 0.0722
6106902510 | 0.5249 | 0.6503
6106902530 | 0.3499 | 0.4335
6106902550 | 0.2916 | 0.3612
6106903010 | 0.5249 | 0.6503
6106903030 | 0.3499 | 0.4335
6106903040 | 0.2916 | 0.3612
6107110010 | 1.0727 | 1.3289
6107110020 | 1.0727 | 1.3289
6107120010 | 0.4767 | 0.5905
6107120020 | 0.4767 | 0.5905
6107191000 | 0.1192 | 0.1477
6107210010 | 0.8343 | 1.0335
6107210020 | 0.7151 | 0.8859
6107220010 | 0.3576 | 0.4430
6107220015 | 0.1192 | 0.1477
6107220025 | 0.2384 | 0.2953
6107299000 | 0.1788 | 0.2215
6107910030 | 1.1918 | 1.4764
6107910040 | 1.1918 | 1.4764
6107910090 | 0.9535 | 1.1812
6107991030 | 0.3576 | 0.4430
6107991040 | 0.3576 | 0.4430
6107991090 | 0.3576 | 0.4430
6107999000 | 0.1192 | 0.1477
6108199010 | 1.0611 | 1.3145
6108199030 | 0.2358 | 0.2921
6108210010 | 1.1790 | 1.4606
6108210020 | 1.1790 | 1.4606
6108299000 | 0.3537 | 0.4382
6108310010 | 1.0611 | 1.3145
6108310020 | 1.0611 | 1.3145
6108320010 | 0.2358 | 0.2921
6108320015 | 0.2358 | 0.2921
6108320025 | 0.2358 | 0.2921
6108398000 | 0.3537 | 0.4382
6108910005 | 1.1790 | 1.4606
6108910015 | 1.1790 | 1.4606
6108910025 | 1.1790 | 1.4606
6108910030 | 1.1790 | 1.4606
6108910040 | 1.1790 | 1.4606
6108920005 | 0.2358 | 0.2921
6108920015 | 0.2358 | 0.2921
6108920025 | 0.2358 | 0.2921
6108920030 | 0.2358 | 0.2921
6108920040 | 0.2358 | 0.2921
6108999000 | 0.3537 | 0.4382
6109100004 | 1.0022 | 1.2415
6109100007 | 1.0022 | 1.2415
6109100011 | 1.0022 | 1.2415
6109100012 | 1.0022 | 1.2415
6109100014 | 1.0022 | 1.2415
6109100018 | 1.0022 | 1.2415
6109100023 | 1.0022 | 1.2415
6109100027 | 1.0022 | 1.2415
6109100037 | 1.0022 | 1.2415
6109100040 | 1.0022 | 1.2415
6109100045 | 1.0022 | 1.2415
6109100060 | 1.0022 | 1.2415
6109100065 | 1.0022 | 1.2415
6109100070 | 1.0022 | 1.2415
6109901007 | 0.2948 | 0.3652
6109901009 | 0.2948 | 0.3652
6109901013 | 0.2948 | 0.3652
6109901025 | 0.2948 | 0.3652
6109901047 | 0.2948 | 0.3652
6109901049 | 0.2948 | 0.3652
6109901050 | 0.2948 | 0.3652
6109901060 | 0.2948 | 0.3652
6109901065 | 0.2948 | 0.3652
6109901070 | 0.2948 | 0.3652
6109901075 | 0.2948 | 0.3652
6109901090 | 0.2948 | 0.3652
6109908010 | 0.3499 | 0.4335
6109908030 | 0.2333 | 0.2890
6110201010 | 0.7476 | 0.9261
6110201020 | 0.7476 | 0.9261
6110201022 | 0.7476 | 0.9261
6110201024 | 0.7476 | 0.9261
6110201026 | 0.7476 | 0.9261
6110201029 | 0.7476 | 0.9261
6110201031 | 0.7476 | 0.9261
6110201033 | 0.7476 | 0.9261
6110202005 | 1.1214 | 1.3892
6110202010 | 1.1214 | 1.3892
6110202015 | 1.1214 | 1.3892
6110202020 | 1.1214 | 1.3892
6110202025 | 1.1214 | 1.3892
6110202030 | 1.1214 | 1.3892
6110202035 | 1.1214 | 1.3892
6110202041 | 1.0965 | 1.3584
6110202044 | 1.0965 | 1.3584
6110202046 | 1.0965 | 1.3584
6110202049 | 1.0965 | 1.3584
6110202067 | 1.0965 | 1.3584
6110202069 | 1.0965 | 1.3584
6110202077 | 1.0965 | 1.3584
6110202079 | 1.0965 | 1.3584
6110909010 | 0.5607 | 0.6946
6110909012 | 0.1246 | 0.1544
6110909014 | 0.3738 | 0.4631
6110909023 | 0.2492 | 0.3087
6110909026 | 0.5607 | 0.6946
6110909028 | 0.1869 | 0.2315
6110909030 | 0.3738 | 0.4631
6110909041 | 0.2492 | 0.3087
6110909044 | 0.5607 | 0.6946
6110909046 | 0.5607 | 0.6946
6110909052 | 0.3738 | 0.4631
6110909054 | 0.3738 | 0.4631
6110909064 | 0.2492 | 0.3087
6110909066 | 0.2492 | 0.3087
6110909067 | 0.5607 | 0.6946
6110909069 | 0.5607 | 0.6946
6110909071 | 0.5607 | 0.6946
6110909073 | 0.5607 | 0.6946
6110909079 | 0.3738 | 0.4631
6110909080 | 0.3738 | 0.4631
6110909081 | 0.3738 | 0.4631
6110909082 | 0.3738 | 0.4631
6110909088 | 0.2492 | 0.3087
6110909090 | 0.2492 | 0.3087
6111201000 | 1.1918 | 1.4764
6111202000 | 1.1918 | 1.4764
6111203000 | 0.9535 | 1.1812
6111204000 | 0.9535 | 1.1812
6111205000 | 0.9535 | 1.1812
6111206010 | 0.9535 | 1.1812
6111206020 | 0.9535 | 1.1812
6111206030 | 0.9535 | 1.1812
6111206050 | 0.9535 | 1.1812
6111206070 | 0.9535 | 1.1812
6111301000 | 0.2384 | 0.2953
6111302000 | 0.2384 | 0.2953
6111303000 | 0.2384 | 0.2953
6111304000 | 0.2384 | 0.2953
6111305010 | 0.2384 | 0.2953
6111305015 | 0.2384 | 0.2953
6111305020 | 0.2384 | 0.2953
6111305030 | 0.2384 | 0.2953
6111305050 | 0.2384 | 0.2953
6111305070 | 0.2384 | 0.2953
6111901000 | 0.2384 | 0.2953
6111902000 | 0.2384 | 0.2953
6111903000 | 0.2384 | 0.2953
6111904000 | 0.2384 | 0.2953
6111905010 | 0.2384 | 0.2953
6111905020 | 0.2384 | 0.2953
6111905030 | 0.2384 | 0.2953
6111905050 | 0.2384 | 0.2953
6111905070 | 0.2384 | 0.2953
6112110010 | 0.9535 | 1.1812
6112110020 | 0.9535 | 1.1812
6112110030 | 0.9535 | 1.1812
6112110040 | 0.9535 | 1.1812
6112110050 | 0.9535 | 1.1812
6112110060 | 0.9535 | 1.1812
6112120010 | 0.2384 | 0.2953
6112120020 | 0.2384 | 0.2953
6112120030 | 0.2384 | 0.2953
6112120040 | 0.2384 | 0.2953
6112120050 | 0.2384 | 0.2953
6112120060 | 0.2384 | 0.2953
6112191010 | 0.2492 | 0.3087
6112191020 | 0.2492 | 0.3087
6112191030 | 0.2492 | 0.3087
6112191040 | 0.2492 | 0.3087
6112191050 | 0.2492 | 0.3087
6112191060 | 0.2492 | 0.3087
6112201060 | 0.2492 | 0.3087
6112201070 | 0.2492 | 0.3087
6112201080 | 0.2492 | 0.3087
6112201090 | 0.2492 | 0.3087
6112202010 | 0.8722 | 1.0805
6112202020 | 0.3738 | 0.4631
6112202030 | 0.2492 | 0.3087
6112310010 | 0.1192 | 0.1477
6112310020 | 0.1192 | 0.1477
6112390010 | 1.0727 | 1.3289
6112410010 | 0.1192 | 0.1477
6112410020 | 0.1192 | 0.1477
6112410030 | 0.1192 | 0.1477
6112410040 | 0.1192 | 0.1477
6112490010 | 0.8939 | 1.1074
6113001005 | 0.1246 | 0.1544
6113001010 | 0.1246 | 0.1544
6113001012 | 0.1246 | 0.1544
6113009015 | 0.3489 | 0.4322
6113009020 | 0.3489 | 0.4322
6113009038 | 0.3489 | 0.4322
6113009042 | 0.3489 | 0.4322
6113009055 | 0.3489 | 0.4322
6113009060 | 0.3489 | 0.4322
6113009074 | 0.3489 | 0.4322
6113009082 | 0.3489 | 0.4322
6114200005 | 0.9747 | 1.2075
6114200010 | 0.9747 | 1.2075
6114200015 | 0.8528 | 1.0565
6114200020 | 0.8528 | 1.0565
6114200035 | 0.8528 | 1.0565
6114200040 | 0.8528 | 1.0565
6114200042 | 0.3655 | 0.4528
6114200044 | 0.8528 | 1.0565
6114200046 | 0.8528 | 1.0565
6114200048 | 0.8528 | 1.0565
6114200052 | 0.8528 | 1.0565
6114200055 | 0.8528 | 1.0565
6114200060 | 0.8528 | 1.0565
6114301010 | 0.2437 | 0.3019
6114301020 | 0.2437 | 0.3019
6114302060 | 0.1218 | 0.1509
6114303014 | 0.2437 | 0.3019
6114303020 | 0.2437 | 0.3019
6114303030 | 0.2437 | 0.3019
6114303042 | 0.2437 | 0.3019
6114303044 | 0.2437 | 0.3019
6114303052 | 0.2437 | 0.3019
6114303054 | 0.2437 | 0.3019
6114303060 | 0.2437 | 0.3019
6114303070 | 0.2437 | 0.3019
6114909045 | 0.5482 | 0.6791
6114909055 | 0.3655 | 0.4528
6114909070 | 0.3655 | 0.4528
6115100500 | 0.4386 | 0.5433
6115101510 | 1.0965 | 1.3584
6115103000 | 0.9868 | 1.2225
6115106000 | 0.1096 | 0.1358
6115298010 | 1.0965 | 1.3584
6115309030 | 0.7675 | 0.9508
6115956000 | 0.9868 | 1.2225
6115959000 | 0.9868 | 1.2225
6115966020 | 0.2193 | 0.2717
6115991420 | 0.2193 | 0.2717
6115991920 | 0.2193 | 0.2717
6115999000 | 0.1096 | 0.1358
6116101300 | 0.3463 | 0.4290
6116101720 | 0.8079 | 1.0008
6116104810 | 0.4444 | 0.5505
6116105510 | 0.6464 | 0.8008
6116107510 | 0.6464 | 0.8008
6116109500 | 0.1616 | 0.2002
6116920500 | 0.8079 | 1.0008
6116920800 | 0.8079 | 1.0008
6116926410 | 1.0388 | 1.2869
6116926420 | 1.0388 | 1.2869
6116926430 | 1.1542 | 1.4298
6116926440 | 1.0388 | 1.2869
6116927450 | 1.0388 | 1.2869
6116927460 | 1.1542 | 1.4298
6116927470 | 1.0388 | 1.2869
6116928800 | 1.0388 | 1.2869
6116929400 | 1.0388 | 1.2869
6116938800 | 0.1154 | 0.1430
6116939400 | 0.1154 | 0.1430
6116994800 | 0.1154 | 0.1430
6116995400 | 0.1154 | 0.1430
6116999510 | 0.4617 | 0.5720
6116999530 | 0.3463 | 0.4290
6117106010 | 0.9234 | 1.1439
6117106020 | 0.2308 | 0.2859
6117808500 | 0.9234 | 1.1439
6117808710 | 1.1542 | 1.4298
6117808770 | 0.1731 | 0.2144
6117809510 | 0.9234 | 1.1439
6117809540 | 0.3463 | 0.4290
6117809570 | 0.1731 | 0.2144
6117909003 | 1.1542 | 1.4298
6117909015 | 0.2308 | 0.2859
6117909020 | 1.1542 | 1.4298
6117909040 | 1.1542 | 1.4298
6117909060 | 1.1542 | 1.4298
6117909080 | 1.1542 | 1.4298
6201301200 | 0.8981 | 1.1126
6201302010 | 1.0602 | 1.3134
6201302020 | 1.0602 | 1.3134
6201302025 | 1.2473 | 1.5452
6201302035 | 1.2473 | 1.5452
6201302050 | 0.8108 | 1.0044
6201302060 | 0.8108 | 1.0044
6201303000 | 0.6486 | 0.8035
6201304000 | 0.8108 | 1.0044
6201305005 | 0.8108 | 1.0044
6201305010 | 0.8108 | 1.0044
6201305021 | 1.2473 | 1.5452
6201305031 | 1.2473 | 1.5452
6201305041 | 1.2473 | 1.5452
6201305051 | 0.8108 | 1.0044
6201305061 | 0.8108 | 1.0044
6201306000 | 0.6486 | 0.8035
6201307000 | 0.8108 | 1.0044
6201308005 | 0.8108 | 1.0044
6201308010 | 0.8108 | 1.0044
6201308021 | 1.2473 | 1.5452
6201308031 | 1.2473 | 1.5452
6201308041 | 1.2473 | 1.5452
6201308051 | 0.8108 | 1.0044
6201308061 | 0.8108 | 1.0044
6201402015 | 0.2495 | 0.3091
6201402020 | 0.2495 | 0.3091
6201402030 | 0.3118 | 0.3863
6201402040 | 0.3118 | 0.3863
6201404500 | 0.3118 | 0.3863
6201405011 | 0.3118 | 0.3863
6201405021 | 0.3118 | 0.3863
6201407000 | 0.3118 | 0.3863
6201407511 | 0.3118 | 0.3863
6201407521 | 0.3118 | 0.3863
6201902910 | 0.5613 | 0.6954
6201902930 | 0.3742 | 0.4636
6201902960 | 0.3742 | 0.4636
6201904910 | 0.5613 | 0.6954
6201904930 | 0.3742 | 0.4636
6201904960 | 0.3742 | 0.4636
6201906910 | 0.5613 | 0.6954
6201906930 | 0.3742 | 0.4636
6201906960 | 0.3742 | 0.4636
6202301200 | 0.8879 | 1.0999
6202302010 | 1.0482 | 1.2985
6202302020 | 1.0482 | 1.2985
6202302025 | 1.2332 | 1.5277
6202302035 | 1.2332 | 1.5277
6202302050 | 0.8016 | 0.9930
6202302060 | 0.8016 | 0.9930
6202303000 | 0.9865 | 1.2221
6202304000 | 0.9865 | 1.2221
6202305010 | 0.9865 | 1.2221
6202305020 | 0.9865 | 1.2221
6202305026 | 1.2332 | 1.5277
6202305031 | 1.2332 | 1.5277
6202305061 | 0.9865 | 1.2221
6202305071 | 0.9865 | 1.2221
6202306000 | 0.9865 | 1.2221
6202307000 | 0.9865 | 1.2221
6202308010 | 0.9865 | 1.2221
6202308020 | 0.9865 | 1.2221
6202308026 | 1.2332 | 1.5277
6202308031 | 1.2332 | 1.5277
6202308061 | 0.9865 | 1.2221
6202308071 | 0.9865 | 1.2221
6202402005 | 0.2524 | 0.3127
6202402010 | 0.2524 | 0.3127
6202402020 | 0.3155 | 0.3908
6202402030 | 0.3155 | 0.3908
6202402500 | 0.2960 | 0.3667
6202403510 | 0.2466 | 0.3055
6202403520 | 0.2466 | 0.3055
6202405011 | 0.2466 | 0.3055
6202405021 | 0.2466 | 0.3055
6202405500 | 0.2960 | 0.3667
6202406010 | 0.2466 | 0.3055
6202406020 | 0.2466 | 0.3055
6202407511 | 0.2466 | 0.3055
6202407521 | 0.2466 | 0.3055
6202902910 | 0.5678 | 0.7034
6202902930 | 0.3786 | 0.4690
6202902960 | 0.2524 | 0.3127
6202904911 | 0.5549 | 0.6874
6202904931 | 0.3700 | 0.4584
6202904961 | 0.2466 | 0.3055
6202906911 | 0.5549 | 0.6874
6202906931 | 0.3700 | 0.4584
6202906961 | 0.2466 | 0.3055
6203122010 | 0.1233 | 0.1527
6203122020 | 0.1233 | 0.1527
6203191010 | 0.9865 | 1.2221
6203191020 | 0.9865 | 1.2221
6203191030 | 0.9865 | 1.2221
6203199010 | 0.5549 | 0.6874
6203199020 | 0.5549 | 0.6874
6203199030 | 0.5549 | 0.6874
6203199050 | 0.37 | 0.4584
6203199080 | 0.2466 | 0.3055
6203221000 | 1.2332 | 1.5277
6203223010 | 0.9865 | 1.2221
6203223015 | 0.9865 | 1.2221
6203223020 | 0.9865 | 1.2221
6203223030 | 0.9865 | 1.2221
6203223050 | 0.9865 | 1.2221
6203223060 | 0.9865 | 1.2221
6203230050 | 0.3083 | 0.3819
6203230055 | 0.3083 | 0.3819
6203230060 | 0.3083 | 0.3819
6203230070 | 0.3083 | 0.3819
6203230080 | 0.3083 | 0.3819
6203230090 | 0.3083 | 0.3819
6203321000 | 0.6782 | 0.8402
6203322010 | 1.1715 | 1.4513
6203322020 | 1.1715 | 1.4513
6203322030 | 1.1715 | 1.4513
6203322040 | 1.1715 | 1.4513
6203322050 | 1.1715 | 1.4513
6203332010 | 0.1233 | 0.1527
6203332020 | 0.1233 | 0.1527
6203392010 | 0.1233 | 0.1527
6203392020 | 0.1233 | 0.1527
6203399010 | 0.5549 | 0.6874
6203399030 | 0.3700 | 0.4584
6203399060 | 0.2466 | 0.3055
6203420300 | 1.0616 | 1.3151
6203420505 | 0.7077 | 0.8767
6203420510 | 0.9436 | 1.1690
6203420525 | 0.9436 | 1.1690
6203420550 | 0.9436 | 1.1690
6203420590 | 0.9436 | 1.1690
6203420703 | 1.0616 | 1.3151
6203420706 | 1.1796 | 1.4613
6203420711 | 1.1796 | 1.4613
6203420716 | 0.9436 | 1.1690
6203420721 | 1.1796 | 1.4613
6203420726 | 1.1796 | 1.4613
6203420731 | 1.1796 | 1.4613
6203420736 | 1.1796 | 1.4613
6203420741 | 0.9436 | 1.1690
6203420746 | 0.9436 | 1.1690
6203420751 | 0.8752 | 1.0842
6203420756 | 0.8752 | 1.0842
6203420761 | 0.8752 | 1.0842
6203421700 | 1.0616 | 1.3151
6203422505 | 0.7077 | 0.8767
6203422510 | 0.9436 | 1.1690
6203422525 | 0.9436 | 1.1690
6203422550 | 0.9436 | 1.1690
6203422590 | 0.9436 | 1.1690
6203424503 | 1.0616 | 1.3151
6203424506 | 1.1796 | 1.4613
6203424511 | 1.1796 | 1.4613
6203424514 | 0.9436 | 1.1690
6203424518 | 0.9436 | 1.1690
6203424521 | 1.1796 | 1.4613
6203424526 | 1.1796 | 1.4613
6203424531 | 1.1796 | 1.4613
6203424536 | 1.1796 | 1.4613
6203424541 | 0.9436 | 1.1690
6203424546 | 0.9436 | 1.1690
6203424551 | 0.8752 | 1.0842
6203424556 | 0.8752 | 1.0842
6203424561 | 0.8752 | 1.0842
6203430100 | 0.1887 | 0.2338
6203430300 | 0.1180 | 0.1462
6203430505 | 0.1180 | 0.1462
6203430510 | 0.2359 | 0.2922
6203430525 | 0.2359 | 0.2922
6203430550 | 0.2359 | 0.2922
6203430590 | 0.2359 | 0.2922
6203431110 | 0.0590 | 0.0731
6203431190 | 0.0590 | 0.0731
6203431310 | 0.1167 | 0.1446
6203431315 | 0.1167 | 0.1446
6203431320 | 0.1167 | 0.1446
6203431330 | 0.1167 | 0.1446
6203431335 | 0.1167 | 0.1446
6203431340 | 0.1167 | 0.1446
6203434500 | 0.1887 | 0.2338
6203435500 | 0.1180 | 0.1462
6203436005 | 0.1180 | 0.1462
6203436010 | 0.2359 | 0.2922
6203436025 | 0.2359 | 0.2922
6203436050 | 0.2359 | 0.2922
6203436090 | 0.2359 | 0.2922
6203436500 | 0.4128 | 0.5114
6203437510 | 0.0590 | 0.0731
6203437590 | 0.0590 | 0.0731
6203439009 | 0.1167 | 0.1446
6203439011 | 0.1167 | 0.1446
6203439015 | 0.1167 | 0.1446
6203439020 | 0.1167 | 0.1446
6203439030 | 0.1167 | 0.1446
6203439035 | 0.1167 | 0.1446
6203439040 | 0.1167 | 0.1446
6203490105 | 0.1180 | 0.1462
6203490110 | 0.2359 | 0.2922
6203490125 | 0.2359 | 0.2922
6203490150 | 0.2359 | 0.2922
6203490190 | 0.2359 | 0.2922
6203490515 | 0.2359 | 0.2922
6203490520 | 0.2359 | 0.2922
6203490530 | 0.1180 | 0.1462
6203490545 | 0.1180 | 0.1462
6203490550 | 0.1180 | 0.1462
6203490560 | 0.1180 | 0.1462
6203490920 | 0.5308 | 0.6576
6203490930 | 0.3539 | 0.4384
6203490945 | 0.2359 | 0.2922
6203492505 | 0.1180 | 0.1462
6203492510 | 0.2359 | 0.2922
6203492525 | 0.2359 | 0.2922
6203492550 | 0.2359 | 0.2922
6203492590 | 0.2359 | 0.2922
6203493500 | 0.4128 | 0.5114
6203495015 | 0.2359 | 0.2922
6203495020 | 0.2359 | 0.2922
6203495030 | 0.1180 | 0.1462
6203495045 | 0.1180 | 0.1462
6203495050 | 0.1180 | 0.1462
6203495060 | 0.1180 | 0.1462
6203499020 | 0.5308 | 0.6576
6203499030 | 0.3539 | 0.4384
6203499045 | 0.2359 | 0.2922
6204110000 | 0.0617 | 0.0764
6204120010 | 0.9865 | 1.2221
6204120020 | 0.9865 | 1.2221
6204120030 | 0.9865 | 1.2221
6204120040 | 0.9865 | 1.2221
6204132010 | 0.1233 | 0.1527
6204132020 | 0.1233 | 0.1527
6204192000 | 0.1233 | 0.1527
6204198010 | 0.5549 | 0.6874
6204198020 | 0.5549 | 0.6874
6204198030 | 0.5549 | 0.6874
6204198040 | 0.5549 | 0.6874
6204198060 | 0.3083 | 0.3819
6204198090 | 0.2466 | 0.3055
6204221000 | 1.2332 | 1.5277
6204223010 | 0.9865 | 1.2221
6204223030 | 0.9865 | 1.2221
6204223040 | 0.9865 | 1.2221
6204223050 | 0.9865 | 1.2221
6204223060 | 0.9865 | 1.2221
6204223065 | 0.9865 | 1.2221
6204223070 | 0.9865 | 1.2221
6204230030 | 0.3083 | 0.3819
6204230035 | 0.3083 | 0.3819
6204230040 | 0.3083 | 0.3819
6204230045 | 0.3083 | 0.3819
6204230050 | 0.3083 | 0.3819
6204230055 | 0.3083 | 0.3819
6204230060 | 0.3083 | 0.3819
6204292015 | 0.3083 | 0.3819
6204292020 | 0.3083 | 0.3819
6204292040 | 0.3083 | 0.3819
6204292050 | 0.3083 | 0.3819
6204294010 | 0.5549 | 0.6874
6204294022 | 0.5549 | 0.6874
6204294034 | 0.5549 | 0.6874
6204294047 | 0.2466 | 0.3055
6204294070 | 0.5549 | 0.6874
6204294082 | 0.5549 | 0.6874
6204294092 | 0.2466 | 0.3055
6204321000 | 0.6782 | 0.8402
6204322010 | 1.1715 | 1.4513
6204322020 | 1.1715 | 1.4513
6204322030 | 0.9865 | 1.2221
6204322040 | 0.9865 | 1.2221
6204398010 | 0.5549 | 0.6874
6204398030 | 0.3083 | 0.3819
6204412010 | 0.0603 | 0.0747
6204412020 | 0.0603 | 0.0747
6204421000 | 1.2058 | 1.4938
6204422000 | 0.6632 | 0.8216
6204423010 | 1.2058 | 1.4938
6204423020 | 1.2058 | 1.4938
6204423030 | 0.9043 | 1.1203
6204423040 | 0.9043 | 1.1203
6204423050 | 0.9043 | 1.1203
6204423060 | 0.9043 | 1.1203
6204431000 | 0.4823 | 0.5975
6204432000 | 0.0603 | 0.0747
6204442000 | 0.4316 | 0.5347
6204495010 | 0.5549 | 0.6874
6204495030 | 0.2466 | 0.3055
6204510010 | 0.0631 | 0.0782
6204510020 | 0.0631 | 0.0782
6204521000 | 1.2618 | 1.5631
6204522010 | 1.1988 | 1.4851
6204522020 | 1.1988 | 1.4851
6204522030 | 1.1988 | 1.4851
6204522040 | 1.1988 | 1.4851
6204522070 | 1.0095 | 1.2506
6204522080 | 1.0095 | 1.2506
6204531000 | 0.4416 | 0.5471
6204532010 | 0.0631 | 0.0782
6204532020 | 0.0631 | 0.0782
6204533010 | 0.2524 | 0.3127
6204533020 | 0.2524 | 0.3127
6204591000 | 0.4416 | 0.5471
6204594010 | 0.5678 | 0.7034
6204594030 | 0.2524 | 0.3127
6204594060 | 0.2524 | 0.3127
6204610510 | 0.0590 | 0.0731
6204610520 | 0.0590 | 0.0731
6204611510 | 0.0590 | 0.0731
6204611520 | 0.0590 | 0.0731
6204611530 | 0.0590 | 0.0731
6204611540 | 0.1180 | 0.1462
6204616010 | 0.0590 | 0.0731
6204616020 | 0.0590 | 0.0731
6204618010 | 0.0590 | 0.0731
6204618020 | 0.0590 | 0.0731
6204618030 | 0.0590 | 0.0731
6204618040 | 0.1180 | 0.1462
6204620300 | 0.8681 | 1.0754
6204620505 | 0.7077 | 0.8767
6204620510 | 0.9436 | 1.1690
6204620525 | 0.9436 | 1.1690
6204620550 | 0.9436 | 1.1690
6204621503 | 1.0616 | 1.3151
6204621506 | 1.1796 | 1.4613
6204621511 | 1.1796 | 1.4613
6204621521 | 0.9436 | 1.1690
6204621526 | 1.1796 | 1.4613
6204621531 | 1.1796 | 1.4613
6204621536 | 1.1796 | 1.4613
6204621541 | 1.1796 | 1.4613
6204621546 | 0.9436 | 1.1690
6204621551 | 0.9436 | 1.1690
6204621556 | 0.9335 | 1.1564
6204621561 | 0.9335 | 1.1564
6204621566 | 0.9335 | 1.1564
6204625000 | 0.8681 | 1.0754
6204626005 | 0.7077 | 0.8767
6204626010 | 0.9436 | 1.1690
6204626025 | 0.9436 | 1.1690
6204626050 | 0.9436 | 1.1690
6204627000 | 1.1796 | 1.4613
6204628003 | 1.0616 | 1.3151
6204628006 | 1.1796 | 1.4613
6204628011 | 1.1796 | 1.4613
6204628014 | 0.9436 | 1.1690
6204628018 | 0.9436 | 1.1690
6204628026 | 1.1796 | 1.4613
6204628031 | 1.1796 | 1.4613
6204628036 | 1.1796 | 1.4613
6204628041 | 1.1796 | 1.4613
6204628046 | 0.9436 | 1.1690
6204628051 | 0.9436 | 1.1690
6204628056 | 0.9335 | 1.1564
6204628061 | 0.9335 | 1.1564
6204628066 | 0.9335 | 1.1564
6204630100 | 0.2019 | 0.2501
6204630200 | 0.1180 | 0.1462
6204630305 | 0.1180 | 0.1462
6204630310 | 0.2359 | 0.2922
6204630325 | 0.2359 | 0.2922
6204630350 | 0.2359 | 0.2922
6204630810 | 0.0590 | 0.0731
6204630820 | 0.0590 | 0.0731
6204630910 | 0.0603 | 0.0747
6204630990 | 0.0603 | 0.0747
6204631110 | 0.2412 | 0.2988
6204631125 | 0.2412 | 0.2988
6204631130 | 0.2412 | 0.2988
6204631132 | 0.2309 | 0.2860
6204631135 | 0.2309 | 0.2860
6204631140 | 0.2309 | 0.2860
6204635000 | 0.2019 | 0.2501
6204635500 | 0.1180 | 0.1462
6204636005 | 0.1180 | 0.1462
6204636010 | 0.2359 | 0.2922
6204636025 | 0.2359 | 0.2922
6204636050 | 0.2359 | 0.2922
6204636500 | 0.4718 | 0.5845
6204637010 | 0.0590 | 0.0731
6204637020 | 0.0590 | 0.0731
6204637510 | 0.0603 | 0.0747
6204637590 | 0.0603 | 0.0747
6204639009 | 0.2412 | 0.2988
6204639011 | 0.2412 | 0.2988
6204639025 | 0.2412 | 0.2988
6204639030 | 0.2412 | 0.2988
6204639032 | 0.2309 | 0.2860
6204639035 | 0.2309 | 0.2860
6204639040 | 0.2309 | 0.2860
6204690105 | 0.1180 | 0.1462
6204690110 | 0.2359 | 0.2922
6204690125 | 0.2359 | 0.2922
6204690150 | 0.2359 | 0.2922
6204690210 | 0.0590 | 0.0731
6204690220 | 0.0590 | 0.0731
6204690230 | 0.0590 | 0.0731
6204690310 | 0.2359 | 0.2922
6204690320 | 0.2359 | 0.2922
6204690330 | 0.2359 | 0.2922
6204690340 | 0.2309 | 0.2860
6204690350 | 0.2309 | 0.2860
6204690360 | 0.2309 | 0.2860
6204690510 | 0.5308 | 0.6576
6204690530 | 0.2359 | 0.2922
6204690570 | 0.3539 | 0.4384
6204690610 | 0.5308 | 0.6576
6204690630 | 0.2359 | 0.2922
6204690644 | 0.2359 | 0.2922
6204690646 | 0.2359 | 0.2922
6204690650 | 0.3539 | 0.4384
6204691505 | 0.1180 | 0.1462
6204691510 | 0.2359 | 0.2922
6204691525 | 0.2359 | 0.2922
6204691550 | 0.2359 | 0.2922
6204692210 | 0.0590 | 0.0731
6204692220 | 0.0590 | 0.0731
6204692230 | 0.0590 | 0.0731
6204692810 | 0.2359 | 0.2922
6204692820 | 0.2359 | 0.2922
6204692830 | 0.2359 | 0.2922
6204692840 | 0.2309 | 0.2860
6204692850 | 0.2309 | 0.2860
6204692860 | 0.2309 | 0.2860
6204696510 | 0.5308 | 0.6576
6204696530 | 0.2359 | 0.2922
6204696570 | 0.3539 | 0.4384
6204698010 | 0.5308 | 0.6576
6204698030 | 0.2359 | 0.2922
6204698044 | 0.2359 | 0.2922
6204698046 | 0.2359 | 0.2922
6204698050 | 0.3539 | 0.4384
6205201000 | 1.1796 | 1.4613
6205202003 | 0.9436 | 1.1690
6205202016 | 0.9436 | 1.1690
6205202021 | 0.9436 | 1.1690
6205202026 | 0.9436 | 1.1690
6205202031 | 0.9436 | 1.1690
6205202036 | 1.0616 | 1.3151
6205202041 | 1.0616 | 1.3151
6205202044 | 1.0616 | 1.3151
6205202047 | 0.9436 | 1.1690
6205202051 | 0.9436 | 1.1690
6205202056 | 0.9436 | 1.1690
6205202061 | 0.9436 | 1.1690
6205202063 | 0.9436 | 1.1690
6205202067 | 0.9436 | 1.1690
6205202071 | 0.9436 | 1.1690
6205202076 | 0.9436 | 1.1690
6205301000 | 0.4128 | 0.5114
6205302010 | 0.2949 | 0.3653
6205302020 | 0.2949 | 0.3653
6205302030 | 0.2949 | 0.3653
6205302040 | 0.2949 | 0.3653
6205302050 | 0.2949 | 0.3653
6205302055 | 0.2949 | 0.3653
6205302060 | 0.2949 | 0.3653
6205302071 | 0.2949 | 0.3653
6205302073 | 0.2949 | 0.3653
6205302075 | 0.2949 | 0.3653
6205302080 | 0.2949 | 0.3653
6205900710 | 0.1180 | 0.1462
6205900720 | 0.1180 | 0.1462
6205901000 | 0.2359 | 0.2922
6205903010 | 0.5308 | 0.6576
6205903030 | 0.2359 | 0.2922
6205903050 | 0.1769 | 0.2191
6205904010 | 0.5308 | 0.6576
6205904030 | 0.2359 | 0.2922
6205904040 | 0.2359 | 0.2922
6206100010 | 0.5308 | 0.6576
6206100030 | 0.2359 | 0.2922
6206100040 | 0.1180 | 0.1462
6206100050 | 0.2359 | 0.2922
6206203010 | 0.0590 | 0.0731
6206203020 | 0.0590 | 0.0731
6206301000 | 1.1796 | 1.4613
6206302000 | 0.6488 | 0.8037
6206303003 | 0.9436 | 1.1690
6206303011 | 0.9436 | 1.1690
6206303021 | 0.9436 | 1.1690
6206303031 | 0.9436 | 1.1690
6206303043 | 0.9436 | 1.1690
6206303045 | 0.9436 | 1.1690
6206303051 | 0.9436 | 1.1690
6206303061 | 0.9436 | 1.1690
6206401000 | 0.4128 | 0.5114
6206403010 | 0.2949 | 0.3653
6206403020 | 0.2949 | 0.3653
6206403025 | 0.2949 | 0.3653
6206403033 | 0.2949 | 0.3653
6206403035 | 0.2949 | 0.3653
6206403040 | 0.2949 | 0.3653
6206403050 | 0.2949 | 0.3653
6206900010 | 0.5308 | 0.6576
6206900030 | 0.2359 | 0.2922
6206900040 | 0.1769 | 0.2191
6207110000 | 1.0281 | 1.2736
6207199010 | 0.3427 | 0.4245
6207199030 | 0.4569 | 0.5660
6207210010 | 1.0502 | 1.3010
6207210020 | 1.0502 | 1.3010
6207210030 | 1.0502 | 1.3010
6207210040 | 1.0502 | 1.3010
6207220000 | 0.3501 | 0.4337
6207291000 | 0.1167 | 0.1446
6207299030 | 0.1167 | 0.1446
6207911000 | 1.0852 | 1.3444
6207913010 | 1.0852 | 1.3444
6207913020 | 1.0852 | 1.3444
6207997520 | 0.2412 | 0.2988
6207998510 | 0.2412 | 0.2988
6207998520 | 0.2412 | 0.2988
6208110000 | 0.2412 | 0.2988
6208192000 | 1.0852 | 1.3444
6208195000 | 0.1206 | 0.1494
6208199000 | 0.2412 | 0.2988
6208210010 | 1.0026 | 1.2420
6208210020 | 1.0026 | 1.2420
6208210030 | 1.0026 | 1.2420
6208220000 | 0.1180 | 0.1462
6208299030 | 0.2359 | 0.2922
6208911010 | 1.0852 | 1.3444
6208911020 | 1.0852 | 1.3444
6208913010 | 1.0852 | 1.3444
6208913020 | 1.0852 | 1.3444
6208920010 | 0.1206 | 0.1494
6208920020 | 0.1206 | 0.1494
6208920030 | 0.1206 | 0.1494
6208920040 | 0.1206 | 0.1494
6208992010 | 0.0603 | 0.0747
6208992020 | 0.0603 | 0.0747
6208995010 | 0.2412 | 0.2988
6208995020 | 0.2412 | 0.2988
6208998010 | 0.2412 | 0.2988
6208998020 | 0.2412 | 0.2988
6209201000 | 1.0967 | 1.3586
6209202000 | 1.0390 | 1.2871
6209203000 | 0.9236 | 1.1442
6209205030 | 0.9236 | 1.1442
6209205035 | 0.9236 | 1.1442
6209205045 | 0.9236 | 1.1442
6209205050 | 0.9236 | 1.1442
6209301000 | 0.2917 | 0.3614
6209302000 | 0.2917 | 0.3614
6209303010 | 0.2334 | 0.2891
6209303020 | 0.2334 | 0.2891
6209303030 | 0.2334 | 0.2891
6209303040 | 0.2334 | 0.2891
6209900500 | 0.1154 | 0.1430
6209901000 | 0.2917 | 0.3614
6209902000 | 0.2917 | 0.3614
6209903010 | 0.2917 | 0.3614
6209903015 | 0.2917 | 0.3614
6209903020 | 0.2917 | 0.3614
6209903030 | 0.2917 | 0.3614
6209903040 | 0.2917 | 0.3614
6210109010 | 0.2170 | 0.2688
6210109040 | 0.2170 | 0.2688
6210203000 | 0.0362 | 0.0448
6210205010 | 0.0844 | 0.1046
6210205020 | 0.4316 | 0.5347
6210205029 | 0.4316 | 0.5347
6210207000 | 0.1809 | 0.2241
6210209039 | 0.1110 | 0.1375
6210209049 | 0.1110 | 0.1375
6210303000 | 0.0362 | 0.0448
6210305010 | 0.0844 | 0.1046
6210305020 | 0.0863 | 0.1069
6210305029 | 0.0863 | 0.1069
6210307000 | 0.0362 | 0.0448
6210309020 | 0.4220 | 0.5228
6210309039 | 0.1480 | 0.1833
6210309049 | 0.1480 | 0.1833
6210401500 | 0.0370 | 0.0458
6210402531 | 0.0863 | 0.1069
6210402539 | 0.0863 | 0.1069
6210402540 | 0.4316 | 0.5347
6210402550 | 0.4316 | 0.5347
6210402800 | 0.1110 | 0.1375
6210402933 | 0.1110 | 0.1375
6210402945 | 0.1110 | 0.1375
6210402960 | 0.1110 | 0.1375
6210403500 | 0.0370 | 0.0458
6210405531 | 0.0863 | 0.1069
6210405539 | 0.0863 | 0.1069
6210405540 | 0.4316 | 0.5347
6210405550 | 0.4316 | 0.5347
6210407500 | 0.1110 | 0.1375
6210408033 | 0.1110 | 0.1375
6210408045 | 0.1110 | 0.1375
6210408060 | 0.1110 | 0.1375
6210500300 | 0.0370 | 0.0458
6210500531 | 0.0863 | 0.1069
6210500539 | 0.0863 | 0.1069
6210500540 | 0.0863 | 0.1069
6210500555 | 0.0863 | 0.1069
6210501200 | 0.4316 | 0.5347
6210502260 | 0.1480 | 0.1833
6210502270 | 0.1480 | 0.1833
6210502290 | 0.1480 | 0.1833
6210503500 | 0.0370 | 0.0458
6210505531 | 0.0863 | 0.1069
6210505539 | 0.0863 | 0.1069
6210505540 | 0.0863 | 0.1069
6210505555 | 0.0863 | 0.1069
6210507500 | 0.4316 | 0.5347
6210508060 | 0.1480 | 0.1833
6210508070 | 0.1480 | 0.1833
6210508090 | 0.1480 | 0.1833
6211111010 | 0.1206 | 0.1494
6211111020 | 0.1206 | 0.1494
6211118010 | 1.0852 | 1.3444
6211118020 | 1.0852 | 1.3444
6211118040 | 0.2412 | 0.2988
6211121010 | 0.0603 | 0.0747
6211121020 | 0.0603 | 0.0747
6211128010 | 1.0852 | 1.3444
6211128020 | 1.0852 | 1.3444
6211128030 | 0.6029 | 0.7469
6211200410 | 0.7717 | 0.9560
6211200420 | 0.0965 | 0.1195
6211200430 | 0.7717 | 0.9560
6211200440 | 0.0965 | 0.1195
6211200810 | 0.3858 | 0.4779
6211200820 | 0.3858 | 0.4779
6211201510 | 0.7615 | 0.9434
6211201515 | 0.2343 | 0.2903
6211201520 | 0.6443 | 0.7982
6211201525 | 0.2929 | 0.3629
6211201530 | 0.7615 | 0.9434
6211201535 | 0.3515 | 0.4354
6211201540 | 0.7615 | 0.9434
6211201545 | 0.2929 | 0.3629
6211201550 | 0.7615 | 0.9434
6211201555 | 0.4100 | 0.5079
6211201560 | 0.7615 | 0.9434
6211201565 | 0.2343 | 0.2903
6211202400 | 0.1233 | 0.1527
6211202810 | 0.8016 | 0.9930
6211202820 | 0.2466 | 0.3055
6211202830 | 0.3083 | 0.3819
6211203400 | 0.1233 | 0.1527
6211203810 | 0.8016 | 0.9930
6211203820 | 0.2466 | 0.3055
6211203830 | 0.3083 | 0.3819
6211204400 | 0.1233 | 0.1527
6211204815 | 0.8016 | 0.9930
6211204835 | 0.2466 | 0.3055
6211204860 | 0.3083 | 0.3819
6211205400 | 0.1233 | 0.1527
6211205810 | 0.8016 | 0.9930
6211205820 | 0.2466 | 0.3055
6211205830 | 0.3083 | 0.3819
6211206400 | 0.1233 | 0.1527
6211206810 | 0.8016 | 0.9930
6211206820 | 0.2466 | 0.3055
6211206830 | 0.3083 | 0.3819
6211207400 | 0.1233 | 0.1527
6211207810 | 0.9249 | 1.1458
6211207820 | 0.2466 | 0.3055
6211207830 | 0.3083 | 0.3819
6211325003 | 0.6412 | 0.7943
6211325003 | 0.6412 | 0.7943
6211325007 | 0.8016 | 0.9930
6211325007 | 0.8016 | 0.9930
6211325010 | 0.9865 | 1.2221
6211325015 | 0.9865 | 1.2221
6211325025 | 0.9865 | 1.2221
6211325030 | 0.9249 | 1.1458
6211325040 | 0.9249 | 1.1458
6211325050 | 0.9249 | 1.1458
6211325060 | 0.9249 | 1.1458
6211325070 | 0.9249 | 1.1458
6211325075 | 0.9249 | 1.1458
6211325081 | 0.9249 | 1.1458
6211329003 | 0.6412 | 0.7943
6211329007 | 0.8016 | 0.9930
6211329010 | 0.9865 | 1.2221
6211329015 | 0.9865 | 1.2221
6211329025 | 0.9865 | 1.2221
6211329030 | 0.9249 | 1.1458
6211329040 | 0.9249 | 1.1458
6211329050 | 0.9249 | 1.1458
6211329060 | 0.9249 | 1.1458
6211329070 | 0.9249 | 1.1458
6211329075 | 0.9249 | 1.1458
6211329081 | 0.9249 | 1.1458
6211335003 | 0.0987 | 0.1223
6211335007 | 0.1233 | 0.1527
6211335010 | 0.3083 | 0.3819
6211335015 | 0.3083 | 0.3819
6211335017 | 0.3083 | 0.3819
6211335025 | 0.3700 | 0.4584
6211335030 | 0.3700 | 0.4584
6211335035 | 0.3700 | 0.4584
6211335040 | 0.3700 | 0.4584
6211335054 | 0.3700 | 0.4584
6211335058 | 0.3700 | 0.4584
6211335061 | 0.3700 | 0.4584
6211339003 | 0.0987 | 0.1223
6211339007 | 0.1233 | 0.1527
6211339010 | 0.3083 | 0.3819
6211339015 | 0.3083 | 0.3819
6211339017 | 0.3083 | 0.3819
6211339025 | 0.3700 | 0.4584
6211339030 | 0.3700 | 0.4584
6211339035 | 0.3700 | 0.4584
6211339042 | 0.3700 | 0.4584
6211339044 | 0.3700 | 0.4584
6211339054 | 0.3700 | 0.4584
6211339058 | 0.3700 | 0.4584
6211339061 | 0.3700 | 0.4584
6211390310 | 0.1233 | 0.1527
6211390320 | 0.1233 | 0.1527
6211390330 | 0.1233 | 0.1527
6211390340 | 0.1233 | 0.1527
6211390345 | 0.1233 | 0.1527
6211390351 | 0.1233 | 0.1527
6211391510 | 0.2466 | 0.3055
6211391520 | 0.2466 | 0.3055
6211391530 | 0.2466 | 0.3055
6211391540 | 0.2466 | 0.3055
6211391550 | 0.2466 | 0.3055
6211391560 | 0.2466 | 0.3055
6211391570 | 0.2466 | 0.3055
6211391590 | 0.2466 | 0.3055
6211393010 | 0.1233 | 0.1527
6211393020 | 0.1233 | 0.1527
6211393030 | 0.1233 | 0.1527
6211393040 | 0.1233 | 0.1527
6211393045 | 0.1233 | 0.1527
6211393051 | 0.1233 | 0.1527
6211398010 | 0.2466 | 0.3055
6211398020 | 0.2466 | 0.3055
6211398030 | 0.2466 | 0.3055
6211398040 | 0.2466 | 0.3055
6211398050 | 0.2466 | 0.3055
6211398060 | 0.2466 | 0.3055
6211398070 | 0.2466 | 0.3055
6211398090 | 0.2466 | 0.3055
6211420503 | 0.6412 | 0.7943
6211420507 | 0.8016 | 0.9930
6211420510 | 0.9865 | 1.2221
6211420520 | 0.9865 | 1.2221
6211420525 | 1.1099 | 1.3750
6211420530 | 0.8632 | 1.0694
6211420540 | 0.9865 | 1.2221
6211420554 | 1.1099 | 1.3750
6211420556 | 1.1099 | 1.3750
6211420560 | 0.9865 | 1.2221
6211420570 | 1.1099 | 1.3750
6211420575 | 1.1099 | 1.3750
6211420581 | 1.1099 | 1.3750
6211421003 | 0.6412 | 0.7943
6211421007 | 0.8016 | 0.9930
6211421010 | 0.9865 | 1.2221
6211421020 | 0.9865 | 1.2221
6211421025 | 1.1099 | 1.3750
6211421030 | 0.8632 | 1.0694
6211421040 | 0.9865 | 1.2221
6211421054 | 1.1099 | 1.3750
6211421056 | 1.1099 | 1.3750
6211421060 | 0.9865 | 1.2221
6211421070 | 1.1099 | 1.3750
6211421075 | 1.1099 | 1.3750
6211421082 | 1.1099 | 1.3750
6211421088 | 1.1099 | 1.3750
6211421092 | 1.1099 | 1.3750
6211430503 | 0.0987 | 0.1223
6211430507 | 0.1233 | 0.1527
6211430510 | 0.2466 | 0.3055
6211430520 | 0.2466 | 0.3055
6211430530 | 0.2466 | 0.3055
6211430540 | 0.2466 | 0.3055
6211430550 | 0.2466 | 0.3055
6211430560 | 0.2466 | 0.3055
6211430564 | 0.3083 | 0.3819
6211430566 | 0.2466 | 0.3055
6211430574 | 0.3083 | 0.3819
6211430576 | 0.3700 | 0.4584
6211430578 | 0.3700 | 0.4584
6211430591 | 0.2466 | 0.3055
6211431003 | 0.0987 | 0.1223
6211431007 | 0.1233 | 0.1527
6211431010 | 0.2466 | 0.3055
6211431020 | 0.2466 | 0.3055
6211431030 | 0.2466 | 0.3055
6211431040 | 0.2466 | 0.3055
6211431050 | 0.2466 | 0.3055
6211431059 | 0.2466 | 0.3055
6211431062 | 0.2466 | 0.3055
6211431064 | 0.3083 | 0.3819
6211431066 | 0.2466 | 0.3055
6211431074 | 0.3083 | 0.3819
6211431076 | 0.3700 | 0.4584
6211431078 | 0.3700 | 0.4584
6211431082 | 0.2466 | 0.3055
6211431088 | 0.2466 | 0.3055
6211431092 | 0.2466 | 0.3055
6211491520 | 0.0617 | 0.0764
6211491530 | 0.1233 | 0.1528
6211491540 | 0.0617 | 0.0764
6211491550 | 0.0617 | 0.0764
6211491555 | 0.0617 | 0.0764
6211491561 | 0.0617 | 0.0764
6211492510 | 0.2466 | 0.3055
6211492520 | 0.2466 | 0.3055
6211492530 | 0.2466 | 0.3055
6211492540 | 0.2466 | 0.3055
6211492550 | 0.2466 | 0.3055
6211492560 | 0.2466 | 0.3055
6211492570 | 0.2466 | 0.3055
6211492580 | 0.2466 | 0.3055
6211492590 | 0.2466 | 0.3055
6211496020 | 0.0617 | 0.0764
6211496030 | 0.1233 | 0.1528
6211496040 | 0.0617 | 0.0764
6211496050 | 0.0617 | 0.0764
6211496055 | 0.0617 | 0.0764
6211498010 | 0.2466 | 0.3055
6211498020 | 0.2466 | 0.3055
6211498030 | 0.2466 | 0.3055
6211498040 | 0.2466 | 0.3055
6211498050 | 0.2466 | 0.3055
6211498060 | 0.2466 | 0.3055
6211498070 | 0.2466 | 0.3055
6211498080 | 0.2466 | 0.3055
6211498090 | 0.2466 | 0.3055
6212105010 | 0.9138 | 1.1320
6212105020 | 0.2285 | 0.2831
6212105030 | 0.2285 | 0.2831
6212109010 | 0.9138 | 1.1320
6212109020 | 0.2285 | 0.2831
6212109040 | 0.2285 | 0.2831
6212200010 | 0.6854 | 0.8491
6212200020 | 0.2856 | 0.3538
6212200030 | 0.1142 | 0.1415
6212300010 | 0.6854 | 0.8491
6212300020 | 0.2856 | 0.3538
6212300030 | 0.1142 | 0.1415
6212900010 | 0.1828 | 0.2265
6212900020 | 0.1828 | 0.2265
6212900030 | 0.1828 | 0.2265
6212900050 | 0.0914 | 0.1132
6212900090 | 0.4112 | 0.5094
6213201000 | 1.1187 | 1.3859
6213202000 | 1.0069 | 1.2474
6213900700 | 0.4475 | 0.5544
6213901000 | 0.4475 | 0.5544
6213902000 | 0.3356 | 0.4157
6214300000 | 0.1142 | 0.1415
6214400000 | 0.1142 | 0.1415
6214900010 | 0.8567 | 1.0613
6214900090 | 0.2285 | 0.2831
6215100025 | 0.1142 | 0.1415
6215200000 | 0.1142 | 0.1415
6215900015 | 1.0281 | 1.2736
6216000800 | 0.0685 | 0.0849
6216001300 | 0.3427 | 0.4245
6216001720 | 0.6397 | 0.7925
6216001730 | 0.1599 | 0.1981
6216001900 | 0.3427 | 0.4245
6216002110 | 0.5780 | 0.7160
6216002120 | 0.2477 | 0.3069
6216002410 | 0.6605 | 0.8182
6216002425 | 0.1651 | 0.2045
6216002600 | 0.1651 | 0.2045
6216002910 | 0.6605 | 0.8182
6216002925 | 0.1651 | 0.2045
6216003100 | 0.1651 | 0.2045
6216003300 | 0.5898 | 0.7307
6216003500 | 0.5898 | 0.7307
6216003800 | 1.1796 | 1.4613
6216004100 | 1.1796 | 1.4613
6217109510 | 0.9646 | 1.1950
6217109520 | 0.1809 | 0.2241
6217109530 | 0.2412 | 0.2988
6217909003 | 0.9646 | 1.1950
6217909005 | 0.1809 | 0.2241
6217909010 | 0.2412 | 0.2988
6217909025 | 0.9646 | 1.1950
6217909030 | 0.1809 | 0.2241
6217909035 | 0.2412 | 0.2988
6217909050 | 0.9646 | 1.1950
6217909055 | 0.1809 | 0.2241
6217909060 | 0.2412 | 0.2988
6217909075 | 0.9646 | 1.1950
6217909080 | 0.1809 | 0.2241
6217909085 | 0.2412 | 0.2988
6301300010 | 0.8305 | 1.0288
6301300020 | 0.8305 | 1.0288
6301900030 | 0.2215 | 0.2744
6302100005 | 1.1073 | 1.3717
6302100008 | 1.1073 | 1.3717
6302100015 | 1.1073 | 1.3717
6302213010 | 1.1073 | 1.3717
6302213020 | 1.1073 | 1.3717
6302213030 | 1.1073 | 1.3717
6302213040 | 1.1073 | 1.3717
6302213050 | 1.1073 | 1.3717
6302215010 | 0.7751 | 0.9602
6302215020 | 0.7751 | 0.9602
6302215030 | 0.7751 | 0.9602
6302215040 | 0.7751 | 0.9602
6302215050 | 0.7751 | 0.9602
6302217010 | 1.1073 | 1.3717
6302217020 | 1.1073 | 1.3717
6302217030 | 1.1073 | 1.3717
6302217040 | 1.1073 | 1.3717
6302217050 | 1.1073 | 1.3717
6302219010 | 0.7751 | 0.9602
6302219020 | 0.7751 | 0.9602
6302219030 | 0.7751 | 0.9602
6302219040 | 0.7751 | 0.9602
6302219050 | 0.7751 | 0.9602
6302221010 | 0.5537 | 0.6859
6302221020 | 0.3876 | 0.4802
6302221030 | 0.5537 | 0.6859
6302221040 | 0.3876 | 0.4802
6302221050 | 0.3876 | 0.4802
6302221060 | 0.3876 | 0.4802
6302222010 | 0.3876 | 0.4802
6302222020 | 0.3876 | 0.4802
6302222030 | 0.3876 | 0.4802
6302290020 | 0.2215 | 0.2744
6302313010 | 1.1073 | 1.3717
6302313020 | 1.1073 | 1.3717
6302313030 | 1.1073 | 1.3717
6302313040 | 1.1073 | 1.3717
6302313050 | 1.1073 | 1.3717
6302315010 | 0.7751 | 0.9602
6302315020 | 0.7751 | 0.9602
6302315030 | 0.7751 | 0.9602
6302315040 | 0.7751 | 0.9602
6302315050 | 0.7751 | 0.9602
6302317010 | 1.1073 | 1.3717
6302317020 | 1.1073 | 1.3717
6302317030 | 1.1073 | 1.3717
6302317040 | 1.1073 | 1.3717
6302317050 | 1.1073 | 1.3717
6302319010 | 0.7751 | 0.9602
6302319020 | 0.7751 | 0.9602
6302319030 | 0.7751 | 0.9602
6302319040 | 0.7751 | 0.9602
6302319050 | 0.7751 | 0.9602
6302321010 | 0.5537 | 0.6859
6302321020 | 0.3876 | 0.4802
6302321030 | 0.5537 | 0.6859
6302321040 | 0.3876 | 0.4802
6302321050 | 0.3876 | 0.4802
6302321060 | 0.3876 | 0.4802
6302322010 | 0.5537 | 0.6859
6302322020 | 0.3876 | 0.4802
6302322030 | 0.5537 | 0.6859
6302322040 | 0.3876 | 0.4802
6302322050 | 0.3876 | 0.4802
6302322060 | 0.3876 | 0.4802
6302390030 | 0.2215 | 0.2744
6302402010 | 0.9412 | 1.1660
6302511000 | 0.5537 | 0.6859
6302512000 | 0.8305 | 1.0288
6302513000 | 0.5537 | 0.6859
6302514000 | 0.7751 | 0.9602
6302593020 | 0.5537 | 0.6859
6302600010 | 1.1073 | 1.3717
6302600020 | 0.9966 | 1.2346
6302600030 | 0.9966 | 1.2346
6302910005 | 0.9966 | 1.2346
6302910015 | 1.1073 | 1.3717
6302910025 | 0.9966 | 1.2346
6302910035 | 0.9966 | 1.2346
6302910045 | 0.9966 | 1.2346
6302910050 | 0.9966 | 1.2346
6302910060 | 0.9966 | 1.2346
6302931000 | 0.4429 | 0.5487
6302932000 | 0.4429 | 0.5487
6302992000 | 0.2215 | 0.2744
6303191100 | 0.8859 | 1.0975
6303910010 | 0.6090 | 0.7544
6303910020 | 0.6090 | 0.7544
6303921000 | 0.2768 | 0.3429
6303922010 | 0.2768 | 0.3429
6303922030 | 0.2768 | 0.3429
6303922050 | 0.2768 | 0.3429
6303990010 | 0.2768 | 0.3429
6304111000 | 0.9966 | 1.2346
6304113000 | 0.1107 | 0.1371
6304190500 | 0.9966 | 1.2346
6304191000 | 1.1073 | 1.3717
6304191500 | 0.3876 | 0.4802
6304192000 | 0.3876 | 0.4802
6304193060 | 0.2215 | 0.2744
6304200020 | 0.8859 | 1.0975
6304200070 | 0.2215 | 0.2744
6304910120 | 0.8859 | 1.0975
6304910170 | 0.2215 | 0.2744
6304920000 | 0.8859 | 1.0975
6304996040 | 0.2215 | 0.2744
6505001515 | 1.1189 | 1.3861
6505001525 | 0.5594 | 0.6930
6505001540 | 1.1189 | 1.3861
6505002030 | 0.9412 | 1.1660
6505002060 | 0.9412 | 1.1660
6505002545 | 0.5537 | 0.6859
6507000000 | 0.3986 | 0.4938
9404401000 | 0.9966 | 1.2346
9404409005 | 0.6644 | 0.8231
9404409036 | 0.0997 | 0.1235
9404901030 | 0.2104 | 0.2606
9404901060 | 0.2104 | 0.2606
9404901090 | 0.2104 | 0.2606
9404908100 | 0.9966 | 1.2346
9404909605 | 0.6644 | 0.8231
9404909636 | 0.0997 | 0.1235
9619002100 | 0.8681 | 1.0754
9619002500 | 0.1085 | 0.1344
9619003100 | 0.9535 | 1.1812
9619003300 | 1.1545 | 1.4302
9619004100 | 0.2384 | 0.2953
9619004300 | 0.2384 | 0.2953
9619006100 | 0.8528 | 1.0565
9619006400 | 0.2437 | 0.3019
9619006800 | 0.3655 | 0.4528
9619007100 | 1.1099 | 1.3750
9619007400 | 0.2466 | 0.3055
9619007800 | 0.2466 | 0.3055
9619007900 | 0.2466 | 0.3055

* * * * *

Melissa Bailey,
Associate Administrator, Agricultural Marketing Service.

[FR Doc. 2025-24113 Filed 12-30-25; 8:45 am]

BILLING CODE P